DEPARTMENT OF THE INTERIOR

Fish and Wildlife Service

50 CFR Part 17

Endangered and Threatened Wildlife and Plants; Annual Notice of Findings on Resubmitted Petitions for Foreign Species; Annual Description of Progress on Listing Actions

AGENCY: Fish and Wildlife Service, Interior.

ACTION: Notice of review.

SUMMARY: In this document, we announce our annual petition findings for foreign species, as required under section 4(b)(3)(C)(i) of the Endangered Species Act of 1972, as amended. When, in response to a petition, we find that listing a species is warranted but precluded, we must complete a new status review each year until we publish a proposed rule or make a determination that listing is not warranted. These subsequent status reviews and the accompanying 12-month findings are referred to as “resubmitted” petition findings.

Information contained in this document describes our review of the current status of 73 foreign taxa that were the subjects of warranted-but-precluded findings. Based on our review, we find that 51 species continue to warrant listing, but that their listing remains precluded by higher-priority listing actions. Seventeen species no longer warrant listing under the Endangered Species Act and, therefore, have been removed from the warranted-but-precluded list. We will promptly publish listing proposals for five of the species.

We request additional status information for these species as well as information on taxa that we should include in future updates of this list. We will consider this information in preparing listing documents and future resubmitted petition findings. This information will also help us in monitoring the status of the taxa and in conserving them.

DATES: We will accept comments on these resubmitted petition findings at any time.

ADDRESSES: Submit any comments, information, and questions by mail to the Chief, Division of Scientific Authority, U.S. Fish and Wildlife Service, 4401 N. Fairfax Drive, Room 750, Arlington, VA 22203; or by fax to 703-358-2276; or by e-mail to ScientificAuthority@fws.gov. Comments and supporting information will be available for public inspection, by appointment, Monday through Friday from 8 a.m. to 4 p.m. at the above address.

FOR FURTHER INFORMATION CONTACT: Robert R. Gabel at the above address, or by telephone, 703-358-1708; fax, 703-358-2276; or e-mail, ScientificAuthority@fws.gov.

SUPPLEMENTARY INFORMATION:

Background

The Endangered Species Act of 1973, as amended (Act) (16 U.S.C. 1531 et seq.), provides two mechanisms for considering species for listing. First, we can identify and propose for listing those species that are endangered or threatened based on the factors contained in section 4(a)(1). We implement this through the candidate program. Candidate taxa are those taxa for which we have on file sufficient information on biological vulnerability and threats to support a proposal to list as endangered or threatened, but for which preparation and publication of a proposed rule is precluded by higher-priority listing actions. None of the species covered by this notice were assessed through the candidate program. Second, the Act allows the public to petition us to add species to the List of Endangered and Threatened Wildlife and Plants (List). Under section 4(b)(3)(A), when we receive such a petition, we must determine within 90 days, to the maximum extent practicable, whether the petition presents substantial information indicating that the petitioned action may be warranted (90-day finding). If we make a positive 90-day finding, under section 4(b)(3)(B) we must make one of three possible findings within 12 months of the receipt of the petition (12-month finding).

The first possible 12-month finding is that listing is not warranted, in which case we need not take any further action on the petition. The second possibility is that we may find that listing is warranted, in which case we must promptly publish a proposed rule to list the species. Once we publish a proposed rule for a species, section 4(b)(5) and (6) govern further procedures, regardless of whether or not we issued the proposal in response to a petition. The third possibility is that we may find that listing is warranted but precluded. Such a finding means that immediate publication of a proposed rule to list the species is precluded by higher-priority listing proposals, and that we are making expeditious progress to add and remove species from the List, as appropriate.

Pursuant to section 4(b)(3)(C)(i) of the Act, when, in response to a petition, we find that listing a species is warranted but precluded, we must make a new 12-month finding each year until we publish a proposed rule or make a determination that listing is not warranted. These subsequent 12-month findings are referred to as “resubmitted” petition findings. This notice constitutes publication of our resubmitted petition findings for all foreign species that are currently the subject of an outstanding petition.

Section 4(b)(3)(C)(iii) of the Act requires the Service to “implement a system to monitor effectively the status of all species” subject to a warranted-but-precluded 12-month finding, and to “make prompt use of the [emergency listing] authority [under section 4(b)(7)] to prevent a significant risk to the well being of any such species.” The annual resubmitted petition findings for foreign species play a crucial role in the Service's monitoring of all warranted-but-precluded foreign species by seeking information regarding the status of those species. The Service reviews all new information on these species as it becomes available and identifies any species for which an emergency listing may be appropriate. If the Service determines that emergency listing is appropriate for any species, the Service will make prompt use of its authority under section 4(b)(7). We have been monitoring and will continue to monitor all warranted-but-precluded foreign species.

Previous Notices

We published earlier petition findings, status reviews, and petition finding reviews that included foreign species in the Federal Register on May 12, 1981 (46 FR 26464); January 20, 1984 (49 FR 2485); May 10, 1985 (50 FR 19761); January 9, 1986 (51 FR 996); July 7, 1988 (53 FR 25511); December 29, 1988 (53 FR 52747); January 6, 1989 (54 FR 554); November 21, 1991 (56 FR 58664); March 28, 1994 (59 FR 14496); and reiterated on January 12, 1995 (60 FR 2899).

Findings on Resubmitted Petitions

This notice describes our resubmitted petition findings for 73 foreign taxa for which we had previously found listing to be warranted but precluded. We have considered any new information obtained since the previous finding, including information provided in a 1997 petition. On May 21, 1997, Public Employees for Environmental Responsibility (also known as PEER) submitted a petition to list the following species as threatened or endangered under the Act (1996 IUCN designations shown in parentheses): Kalinowski's tinamou (Nothoprocta kalinowskii) (Critically Endangered), Colombian grebe (Podiceps andinus) (Extinct), Junin flightless grebe (Podiceps taczanowskii) (Critically Endangered), Beck's petrel (Pseudobulweria becki) (Critically Endangered), Fiji petrel (Pterodroma macgillivrayi) (Critically Endangered), Chatham Islands petrel (P. axillaris) (Critically Endangered), Cook's petrel (Pterodroma cookii) (Vulnerable), Galapagos petrel (P. phaeopygia) (Critically Endangered), magenta petrel (P. magentae) (Critically Endangered), Heinroth's shearwater (Puffinus heinrothi) (Endangered), greater adjutant stork (Leptoptilos dubius) (Endangered), giant ibis (Pseudibis gigantea) (Critically Endangered), Andean flamingo (Phoenicopterus andinus) (Vulnerable), Brazilian merganser (Mergus octosetaceus) (Critically Endangered), southern helmeted curassow (Pauxi unicornis) (Endangered), blue-billed curassow (Crax alberti) (Critically Endangered), Cauca guan (Penelope perspicax) (Endangered), gorgeted wood-quail (Odontophorus strophium) (Endangered), Junin rail (Laterallus tuerosi) (Endangered), bar-winged rail (Nesocolpeus poecilopterus) (Extinct), Bogota rail (Rallus semiplumbeus) (Endangered), takahe (Porphyrio mantelli) (Endangered), Chatham Island oystercatcher (Haematopus chathamensis) (Endangered), black stilt (Himantopus novaezelandiae) (Critically Endangered), Jerdon's courser (Rhinoptilus bitorquatus) (Endangered), slender-billed curlew (Numenius tenuirostris) (Critically Endangered), Marquesan imperial-pigeon (Ducula galeata) (Critically Endangered), salmon-crested cockatoo (Cacatua moluccensis) (Vulnerable), Uvea parakeet (Eunymphicus cornutus uvaensis) (listed at the species level as Vulnerable, not listed at the subspecies level), blue-throated macaw (Ara glaucogularis) (Endangered), black-breasted puffleg (Eriocnemis nigrivestis) (Critically Endangered), Esmeraldas woodstar (Acestrura berlepschi) (Endangered), Chilean woodstar (Eulidia yarrellii) (Vulnerable), helmeted woodpecker (Dryocopus galeatus) (Endangered), Okinawa woodpecker (Sapheopipo noguchii) (Critically Endangered), yellow-browed toucanet (Aulacorhynchus huallagae) (Lower Risk/Near Threatened), royal cinclodes (Cinclodes aricomae) (Critically Endangered), white-browed spinetail (Leptasthenura xenothorax) (Critically Endangered), black-hooded antwren (Formicivora erythronotos) (Critically Endangered), fringe-backed fire-eye (Pyriglena atra) (Endangered), brown-banded antpitta (Grallaria milleri) (Endangered), Stresemann's bristlefront (Merulaxis stresemanni) (Critically Endangered), grey-winged cotinga (Tijuca condita) (Vulnerable), Brasilia tapaculo (Scytalopus novacapitalis) (Vulnerable), Kaempfer's tody-tyrant (Hemitriccus kaempferi) (Endangered), ash-breasted tit-tyrant (Anairetes alpinus) (Endangered), Peruvian plantcutter (Phytotoma raimondii) (Critically Endangered), Gurney's pitta (Pitta gurneyi) (Critically Endangered), Niceforo's wren (Thryothorus nicefori) (Critically Endangered), Socorro mockingbird (Mimodes graysoni) (Endangered), St. Lucia forest thrush (Cichlherminia iherminieri sanctaeluciae) (listed at the species level as Lower Risk/Near Threatened, not listed at the subspecies level), Moorea reed-warbler (Acrocephalus caffer longirostris) (listed as Vulnerable at the species level, not listed as a subspecies), Eiao Polynesian warbler (Acrocephalus caffer aquilonis) (listed at the species level as Vulnerable, not listed at the subspecies level), long-legged thicketbird (Trichocichla rufa) (Critically Endangered), caerulean Paradise-flycatcher (Eutrichomyias rowleyi) (Critically Endangered), Ua Pu flycatcher (Pomarea mendozae mira) (listed as Endangered at the species level, not listed as a subspecies), Ghizo white-eye (Zosterops luteirostris) (Vulnerable), Tumaco seedeater (Sporophila insulate) (Critically Endangered), medium tree-finch (Camarhynchus pauper) (Lower Risk/Near Threatened), cherry-throated tanager (Nemosia rourei) (Critically Endangered), and black-backed tanager (Tangara peruviana) (Endangered). The basis for the PEER petition was that these species had been classified as Critically Endangered, Endangered, Vulnerable, Conservation Dependent, or Near Threatened in the 1996 IUCN Red List of Threatened Animals (IUCN 1996). At the time the petition was received, listing for these species was already found to be warranted but precluded. We have taken into consideration the species' IUCN status, but as discussed in our 2000 Federal Register finding (65 FR 49958), the IUCN designation alone did not provide significant new information on threats to the species or their status.

As a result of this review, we find that warranted-but-precluded findings remain appropriate for 51 species. We emphasize that we are not proposing these species for listing by this notice, but we anticipate developing and publishing proposed listing rules for these taxa in the future. Seventeen species no longer warrant listing under the Act and, therefore, are being removed from the list. Finally, we will promptly publish proposals for five of the species: the giant ibis (Pseudibis gigantean), black stilt (Himantopus novaezelandiae), Gurney's pitta (Pitta gurneyi), Socorro mockingbird (Mimodes graysoni), and caerulean paradise-flycatcher (Eutrichomyias rowleyi).

Based on information gathered and assessed since January 12, 1995, we have updated our determinations of whether listing of these taxa continues to be warranted or warranted but precluded, or whether we have now determined that listing is not warranted. See Table 1 for a summary of these current determinations. Taxa in Table 1 of this notice are assigned to three status categories, noted in the “Category” column at the left side of the table. We identify the species for which listing is no longer warranted with an “R” in the category column. We identify the taxa for which we continue to find that listing is warranted but precluded by a “C” in the category column. We have added a third category for those species for which we find that listing is warranted and designate these taxa with an “L.” The column labeled “Priority” indicates the listing priority number for all warranted or warranted-but-precluded taxa. We assign this number based on the immediacy and magnitude of threats, as well as taxonomic status. We published a complete description of our listing priority system on September 21, 1983 (48 FR 43098). Following the scientific name of each taxon (third column) is the family designation (fourth column) and the common name, if one exists (fifth column). The sixth column provides the known historical range for the taxon.

Findings on Species for Which Listing Is Not Warranted

As previously mentioned, we found that 17 species no longer warrant listing under the Endangered Species Act, and we therefore have removed them from the warranted-but-precluded list. Five of the species were considered extinct when the initial warranted-but-precluded finding was made and should not have been included on the list at that time. These species include the Colombian grebe (Podiceps andinus), bar-winged rail (Nesocolpeus poecilopterus), grey-headed blackbird (Turdus poliocephalus poliocephalus), Moorea reed-warbler (Acrocephalus caffer longirostris), and Ua Pu flycatcher (Pomarea mendozae mira). For six additional species, the best available information now indicates that they are also likely to be extinct, although they were considered to be extant at the time of the original petition and when we made our previous findings. These include Kalinowski's tinamou (Nothoprocta kalinowskii), Beck's petrel (Pseudobulweria becki), the Utila chachalaca (Ortalis vetula deschauenseei), Stresemann's bristlefront (Merulaxis stresemanni), the Bananal tyrannulet (Serpophaga araguayae), and the long-legged thicketbird (Trichocichla rufa). For five species, the best available scientific information indicates that they are not taxonomically distinct, and these include Beck's petrel (Pseudobulweria becki)(if birds previously identified as this species are not extinct), the Italian grey partridge (Perdix perdix italica), hairy hermit (Glaucis hirsuta), Niceforo's wren (Thryothorus nicefori), and the Tumaco seedeater (Sporophila insulata). Finally, the best available scientific and commercial data indicate that the Lanyu scops owl (Otus elegans botelensis) and grey-winged cotinga (Tijuca condita) do not qualify as threatened or endangered.

Extinct Species

Kalinowski's tinamou (Nothoprocta kalinowskii)

Kalinowski's tinamou was endemic to Peru. It is known from only two specimens that were collected from widely scattered localities and has not been recorded since 1900 (BirdLife International 2000). One specimen was collected in 1894, in Cuzco at 4,575 meters (m), and the other was collected in 1900, on the Pacific slope east of Santiago de Chuco, western La Libertad, at 3,000 m (Collar et al. 1992). The Cuzco specimen was collected in an area that suggested its natural habitat was grassland or possibly a Polylepis woodland (BirdLife International 2000). The specimen collected on the Pacific slope of La Libertad came from a habitat of montane scrub (Collar et al. 1992). It is possible that the Cuzco specimen is mislabeled and was also taken at a lower elevation (BirdLife International 2000).

Virtually nothing is known about this species, but its conservation status was presumed to be critical (IUCN 2002). Threats to the species and the cause of its extreme rarity and likely extinction are unknown (BirdLife International 2000). Virtually all species of tinamous are affected by hunting and habitat alteration from the presence of man in the high Andes, and these factors may have been threats (Collar et al. 1992). This species has not been documented in over a century, even though Collar et al. (1992) had proposed that the existence of the species be confirmed. We conclude, based on the best available scientific and commercial information, that this species is extinct. We therefore find that listing of this species is no longer warranted. Because this species is known from only two specimens collected over 100 years ago, a full taxonomic evaluation of the species, involving careful evaluation of the two known skins, would be helpful to determine if it ever was a distinct taxon or is actually another species. Research on whether there is any possibility of the continued existence of this species would also be helpful.

Colombian grebe (Podiceps andinus)

The best available scientific and commercial information indicates that the Colombian grebe is extinct, and therefore, listing is not warranted. It was once found on several lakes on the Bogota and Ubate savannas, and in Lake Tota in the eastern Andes of Colombia (O'Donnel and Fjedsa 1997). These lakes contained tall marginal reeds and extensive shallows full of submergent water-weeds. The Colombian grebe was formerly considered abundant on Lake Tota in the 1940s, but by 1968, it had declined to approximately 300 birds (del Hoyo et al. 1992). There were only two records of the bird in the 1970s: one in 1972 and another one in 1977 involving one to three birds. It was sporadically sighted in various other lakes in the region of the Sabana de Bogota until the early 1950s. The last confirmed record of this species was in 1977 (World Conservation Union [IUCN] 2002). However, the validity of these last records has been questioned, and some individuals believe the species may have become extinct as early as the beginning of the 1960s. Two detailed surveys conducted in 1981 and 1982 in the wetlands of the eastern Andes of Colombia did not locate any birds (O'Donnel and Fjedsa 1997).

The decline of the Colombian grebe is attributed to wetland drainage, siltation, pesticide pollution, disruption by reed harvesting, hunting, competition, and predation of chicks by rainbow trout (Salmo gairdneri) (del Hoyo et al. 1992). However, the main cause of the decline is considered to be the drainage of wetlands, siltation, and subsequent eutrophication of Lake Tota, which destroyed the open, submergent Potamogeton vegetation and resulted in the formation of a dense monoculture of Elodea (Varty et al. 1986, Fjeldsa 1993, as cited in O'Donnel and Fjeldsa 1997). In the 1950s, to provide land for agriculture, the level of the lake was reduced by about one meter. This also changed the composition of the aquatic plant community from 1960 forward due to a boom in onion growing around the lake. Large amounts of fertilizers and mineral were applied at this time. The extent of shallow zones with floating vegetation was greatly reduced. The area affected was where the Colombian grebe, a foliage gleaner, obtained most of its food. The decrease in food availability markedly reduced the number of grebes and made the species more vulnerable to other adverse impacts (del Hoyo et al. 1992).

Beck's petrel (Pseudobulweria becki)

Based on the best available scientific and commercial information this species is either extinct or conspecific (i.e., synonymous) with another taxon, and we conclude that it no longer warrants listing. See further discussion below under “Taxa found to be not taxonomically distinct” for the basis for finding that the species, if it is not conspecific with another taxon, is extinct.

Utila chachalaca (Ortalis vetula deschauenseei)

The Utila chachalaca was only found on Utila Island off the coast of northern Honduras. This subspecies was found in mangroves, which cover approximately three-quarters of Utila Island, and was formerly found in adjacent scrub patches. The Utila chachalaca was known to be local in 1936, but not rare. However, since that time, the population declined severely due to intense hunting pressure. In 1962, the population was estimated at 50-70 individuals. More recently, S. Midence (personal communication, as cited in Brooks and Strahl 2000) had suggested that a small population persists on the island, but del Hoyo et al. (1994) stated that it is possibly extinct. Results from brief surveys conducted in 1995 suggested that the population at that time was extremely small if not extinct (Seutin 1998, as cited in Brooks and Strahl 2000). Honduras has listed the species Ortalis vetula in Appendix III of the Convention on International Trade in Endangered Species of Wild Fauna and Flora (CITES). Considering the historic decline of the species, that some ornithologists have considered this species to be extinct for 10 years or more, and that no confirmed sightings have occurred in over 10 years, we conclude that the best available scientific and commercial information indicates that this species is extinct and its listing is no longer warranted.

Bar-winged rail (Nesocolpeus poecilopterus)

The best available scientific and commercial information indicates that the bar-winged rail is extinct, and therefore listing of this species is not warranted. It is known from twelve 19th Century specimens from Vitu Levu and Ovalau, reports from Taveuni, and in 1973, from Waisa and Vitu Levu, all in Fiji (Holyoak 1979, as cited in BirdLife International 2000). This was a flightless bird that inhabited remote forested areas, old overgrown plantations, and possibly lowland swamps (Pratt et al. 1987). Two other rails from these islands have become extinct due to predation by introduced mongooses (Herpestes spp.) and cats (Felis domesticus). BirdLife International (2000) classifies the bar-winged rail as extinct.

Stresemann's bristlefront (Merulaxis stresemanni)

Stresemann's bristlefront is known from just two specimens from eastern Brazil: one collected near Salvadore in the 1830s and a second from Ilheus in 1945 (BirdLife International 2000). Nothing is known about this species, and recent surveys have failed to find any individuals. The humid forest in Bahia, the presumed range of the species, has been cleared or converted to cacao plantations, and the remaining patches are disappearing very rapidly (BirdLife International 2000). This species is categorized as Critically Endangered by the IUCN because, if it is extant, its population is likely to be very tiny (IUCN 2002), and it continues to be protected by Brazilian law. BirdLife International (2000) recommends that surveys be conducted to locate any extant populations. Fieldwork is needed not only to confirm the continued existence of the species but to provide information on its ecological requirements if it exists (BirdLife International 2001). Based on the best available scientific and commercial information, particularly the lack of sightings and extensive loss of habitat, we conclude that this species is now extinct and its listing is not warranted.

Bananal tyrannulet (Serpophaga araguayae)

The Bananal tyrannulet appears to be known only from the type specimen from Ilha do Bananal, Goias, Brazil (Traylor 1979, as cited in Collar et al. 1988), and has not been relocated in the wild despite several searches. We have therefore determined that the species is extinct, and we no longer find that listing of this species is warranted.

Grey-headed blackbird (Turdus poliocephalus poliocephalus)

The grey-headed blackbird has been classified by Environment Australia as extinct. The subspecies was last seen in 1975 and there have been no records since, despite searches (Garnett and Crowley 2000). It was endemic to Norfolk Island and originally probably occurred throughout the island. The principle reason for the grey-headed blackbird's disappearance was the arrival of black rats (Rattus rattus) in the 1940s (Robinson 1988, as cited in Garnett and Crowley 2000). Hybridization with the European blackbird (Turdus merula) may have also played a part in the decline of the subspecies (Schodde and Mason 1999, as cited in Garnett and Crowley 2000). The best available scientific and commercial information indicates that this species is extinct, and therefore listing is not warranted.

Moorea reed-warbler (Acrocephalus caffer longirostris)

This subspecies was considered nearly extinct in 1986 (Sherley 2001). An expedition in 1921 reported that this endemic form on Moorea Island (Society Islands) was less common and localized than previously thought. Investigative surveys in 1971-1973 located two pairs in the interior of the island (Sherley 2001). However, research conducted in December 1986 and January 1987 yielded no evidence of this warbler's continued existence, and Thibault and Guyot (1988) considered it extinct. Thus, we conclude that the best available scientific and commercial information indicates that this subspecies is extinct, and listing of this subspecies is not warranted. Three other forms of this species, endemic to certain islands, are also extinct, whereas the nominate form is widespread on many islands (Birds of French Overseas Territories 2003).

Long-legged thicketbird (Trichocichla rufa)

The long-legged thicketbird was endemic to Viti Levu and Vanua Levu on Fiji (BirdLife International 2000). It was secretive and foraged on the ground beneath dense vegetation in rainforests above 800 m (Pratt et al. 1987). This species is known from very few specimens and has been considered to be extinct (Watling 1982, as cited in BirdLife International 2000). Observations from 1967, 1973, 1991, and more recently remain unconfirmed (D. Watling, personal communication 2000, as cited in BirdLife International 2000). Predation by introduced mongooses (Herpestes auropunctatus), possibly cats, and black rats (Rattus rattus) may be threats (BirdLife International 2000). This species is categorized as data deficient by the IUCN. However, we conclude that the best available scientific and commercial information indicates that this species is extinct, and that listing of the species is no longer warranted.

Ua Pu flycatcher (Pomarea mendozae mira)

Pomarea mendozae was formerly widespread in the central Marquesas Islands, French Polynesia, and comprised four subspecies (Collar et. al. 1994). On Ua Pu, the Ua Pu flycatcher was not located during 1989 or 1990, or during intensive searches in 1994 and 1998 (Thibault and Meyer, as cited by BirdLife International 2003). The best available scientific and commercial information indicates that this subspecies is now extinct (BirdLife International 2003), and therefore listing is not warranted.

Taxa Found To Be Not Taxonomically Distinct

Beck's petrel (Pseudobulweria becki)

Beck's petrel is known from only two specimens: a female taken at sea east of New Ireland and north of Buka, Papua New Guinea, in 1928, and a male taken northeast of Rendova, Solomon Islands, in 1929 (BirdLife International 2000). If it survives at all, it is thought that this species probably nests on small islets or high mountains on larger islands (BirdLife International 2000), but this species is very poorly known. This species may potentially be threatened by predation from introduced cats and rats on its unknown breeding grounds (BirdLife International 2000). This species is categorized as Critically Endangered by the IUCN because it is suspected to have a tiny population. However, if recent sightings of presumed Tahiti petrels Pseudobulweria rostrata in the Bismarck Archipelago and Solomon Islands prove to be, in fact, Beck's petrels, population estimates will increase and perhaps cause the species to be categorized as Endangered (IUCN 2002). There are a number of target actions identified for this species by BirdLife International. These include various surveys as well as investigating the taxonomic validity of specimens to determine this species' relationship with the Tahiti petrel, with which it may be conspecific (BirdLife International 2000).

The best available scientific and commercial information indicates that this species is either extinct or conspecific (i.e., synonymous) with another taxon, and we conclude that it no longer warrants listing.

Italian grey partridge (Perdix perdix italica)

The Italian grey partridge was described at the beginning of the 20th Century from a limited number of museum specimens (BirdLife International 1999). Subsequently, its taxonomic validity was questioned (Violani et al. 1988, as cited in BirdLife International 1999). Currently, the subspecies italica is normally included within the nominate perdix, even if taxonomy of the species may be subject to further study (e.g., as recommended by del Hoyo et al. 1994). The status of the grey partridge (Perdix perdix) is considered secure because it is still widespread and estimated to number several million birds (del Hoyo et al. 1994). Because we agree that the Italian grey partridge is no longer considered distinct from the nominate species, we conclude that it no longer warrants listing.

Hairy hermit (Glaucis hirsuta; Previously Referred to as black barbthroat [Threnetes grzimeki])

The black, or Grzimek's, barbthroat (species name used in the original petition) was first described as a new species in 1973 by Ruschi from Espiritu Santo (Sibley and Monroe 1990). It is currently included with the hairy hermit (Glaucis hirsuta; Sick 1993), since it has been determined that it was described based on the plumage of an immature male G. hirsuta (del Hoyo et al. 1999; Sibley and Monroe 1990). Two subspecies are currently recognized: G. h. insularum, found in Grenada and Trinidad and Tobago, and G. h. hirsute, found in Panama, Colombia west of the Andes, and east of the Andes to central Bolivia, through Venezuela to the Guianas, and almost all of Brazil (del Hoyo et al. 1999). It is found in the understory of many types of forest and dense vegetation outside primary forests, second growth, woodland clearings, disturbed and secondary forest, riverine habitats, swamps, shrubs, and forest edge (del Hoyo et al. 1999; Sick 1993). It is not globally threatened and is generally common throughout much of its extensive range (del Hoyo et al. 1999). Glaucis hirsuta is listed in Appendix II of CITES.

Based on the best available scientific and commercial information, we conclude that listing of the black barbthroat is no longer warranted because it has been determined to be conspecific with a species that is common within its range and not a distinct, rare species.

Niceforo's wren (Thryothorus nicefori)

Niceforo's wren occurs on the west slope of the eastern Andes in Santander, Colombia (BirdLife International 2000). It is known only from the type locality at San Gil on the Rio Fonce, south of Bucaramanga, where seven specimens, including the type, were taken in 1945 (Meyer de Schauensee 1946, as cited in BirdLife International 2000). There appear to be no further records until 1989, when two birds were seen in dense Acacia scrub in a semi-arid valley a short distance east of San Gil (Collar et al. 1992). This species is considered Critically Endangered by IUCN because its known population is tiny, inferred to be declining, and known from only one site in a region where the habitat is highly modified and habitat degradation is continuing (IUCN 2002). The threats to this species are unclear because the dependence on Acacia scrub and the extent of occupied habitat is not known (BirdLife International 2000). Suitable habitat may have been lost to agricultural conversion, and the remaining Acacia scrub is threatened by goat and cattle grazing and seasonal burning for farming (Collar et al. 1992).

Mayr and Greenway (1960) and Ridgely and Tudor (1989) have suggested that this bird may be a well-marked subspecies of the widespread rufous-and-white wren (Thryothorus rufalbus) (Collar et al. 1992). In Colombia, this wren is found from the Caribbean lowlands to the llanos east of the Andes (Hilty and Brown 1986). The most recent observation of Niceforo's wren showed that it sounds exactly like the rufous-and-white wren and responds to a tape of that species (P. Kaestner in litt. 1992, as cited in Collar et al. 1992). Validity as a separate species is doubtful (F. G. Stiles in litt. 1999, as cited in BirdLife International 2000). Therefore, because of the significant information indicating that this is not a distinct taxon, but is a variant of a widespread species, we conclude that listing of this species is not warranted.

Tumaco seedeater (Sporophila insulata)

The Tumaco seedeater is described from islands and river deltas on the coast of southwest Colombia (BirdLife International 2000). The type-series was collected in 1912 (Chapman 1917, as cited in Collar et al. 1992), and the bird was not seen again until it was rediscovered 82 years later in 1994 on Isla Bocagrande (Salaman 1995). In 1998, birds were found on Isla Aji in the Rio Naya Delta, Valle del Cauca (Gomez, in litt. 1999, as cited in BirdLife International 2000). It could be extinct on Tumaco (Salaman 1995), and it was not found on Isla Bocagrande after 3 days of searching in December 1999 (Strewe, in litt. 2000). This species is classified as Critically Endangered in the 2002 IUCN Red List because it has a very small range and the population is declining to the extent that it is possibly extirpated from Tumaco (IUCN 2002). The population estimate for this species is 250-999 birds with a decreasing population trend (BirdLife International 2000). Development is the major threat (ibid.). Nonetheless, information indicates that the species status should be re-assessed based on taxonomy. Ridgely and Tudor (1989) concluded that the Tumaco seedeater is almost certainly allied to the more common chestnut-throated seedeater (S. telasco), or may represent a hybrid between the chestnut-throated seedeater and the ruddy-breasted seedeater (S. minuta), although they indicate that the taxonomic relationship of S. insulata and S. telasco should be investigated further, along with other closely related species of Sporophila.

We conclude that listing of this species is no longer warranted based on this information on taxonomy. The best available scientific information indicates that this taxon is either a conspecific of a more common species or a hybrid of two known species.

Taxa That Are Not Threatened or Endangered

Lanyu scops owl (Otus elegans botelensis)

The Lanyu scops owl is not considered globally threatened, and we note that this subspecies has been regularly omitted from lists of globally threatened birds (Collar et al. 1988, BirdLife International 2001). This subspecies is found on Lanyu Island, off the coast of southeastern Taiwan (del Hoyo et al. 1999). In the mid-1980s, the Lanyu scops owl was listed as Endangered by IUCN because its population was estimated at about 200 individuals. Since that time, numbers have grown, and recently, the population has been determined to be stable at about 1,000 individuals (del Hoyo et al. 1999). Currently, the IUCN categorizes Otus elegans as Lower Risk/Near-Threatened (IUCN 2002). The species is listed in Appendix II of CITES, as are all members of the Order Strigiformes unless they are listed in Appendix I.

The status of this species has improved considerably since our original warranted-but-precluded finding was made. Based on the best available scientific and commercial information, we have evaluated the status of this subspecies according to the five factors contained in Section 4(a)(1) of the Act for determining whether a species is endangered or threatened, as follows:

The present or threatened destruction, modification, or curtailment of its habitat or range: The Lanyu scops owl is restricted to the relatively small (45 km²) tropical island of Lanyu, located southeast of Taiwan. Studies have shown that, although the amount of suitable habitat is limited, all available nesting habitat is saturated (Severinghaus 2000), and prospects for the survival of the Lanyu scops owl are considered good as long as the habitat is protected (BirdLife International 2000). We are not aware of any specific information on current threats to the habitat of this subspecies.

Overutilization for commercial, recreational, scientific, or educational purposes: There is no documentation of overutilization of this subspecies, if it is utilized at all. However, even if it were to be utilized for some purpose, such use would be regulated internationally through the current listing of this and all owls in the Appendices to CITES, which requires that any trade must be both legal and non-detrimental to the survival of the species.

Disease or predation: There is no information to suggest that the Lanyu scops owl is subject to any threat from disease or predation.

The inadequacy of existing regulatory mechanisms: Although the Lanyu scops owl might benefit in the long term from more formal protection of its habitat, the lack of current protection does not appear to present a problem for the species, since no immediate threat to the habitat has been identified.

Other natural or manmade factors affecting its continued existence: Due to the lack of any information on current threats to the Lanyu scops owl, and because it has been able to increase to five times the estimated population size of 20 years ago, there is no indication that this subspecies is being adversely affected by any other natural or manmade factors.

Therefore, we conclude that this subspecies is not in danger of extinction or likely to become an endangered species within the foreseeable future throughout all or a significant portion of its range, and that listing of the Lanyu scops owl is no longer warranted.

Grey-winged cotinga (Tijuca condita)

The grey-winged cotinga is restricted to the Serra dos Orgaos and the Serra do Tingua in the vicinity of Rio de Janeiro, Brazil (BirdLife International 2000). It has been recorded from small patches of extremely humid elfin cloud-forest rich in bromeliads with an even canopy 5-10 m above the ground (Snow 1982). It is found on both exposed ridge-tops and on sheltered slopes in an otherwise open area of bamboo and tussock grass (ibid.). It is classified as Vulnerable in the 2002 IUCN Red List because it has a small range restricted to two adjacent montane areas (IUCN 2002). The population is estimated at 1,000-2,499 individuals and is considered stable (BirdLife International 2000). Scott and Brooke (1985, as cited in Collar et al. 1988) found that this species is clearly rare and local, and occurs at a very low density, and the total area of suitable habitat is small. However, there is little reason to believe that it was ever much more numerous than at present. There are no major threats to its habitat, although both disturbance and fires caused by hikers have been considered potential threats (BirdLife International 2000). Both populations occur within the protected areas of Serra dos Orgaos National Park and the Tingua Biological Reserve (ibid.).

This species currently has a stable population at approximately historic levels, is not subject to significant threats within its range, and occurs within protected areas. Based on the best available scientific and commercial information, we have evaluated the status of this species according to the five factors contained in section 4(a)(1) of the Act for determining whether a species is endangered or threatened, as follows:

The present or threatened destruction, modification, or curtailment of its habitat or range: This species has a limited area of suitable habitat, but this is believed not to have changed over time. Its habitat is described as naturally fragmented (BirdLife International 2003). There is a potential threat from fire, but otherwise, no specific threat to the species' habitat (Scott and Brooke 1985, as cited in Collar et al. 1988).

Overutilization for commercial, recreational, scientific, or educational purposes: There is no information to suggest that this species is used by humans for any purpose, and therefore it is not being overutilized.

Disease or predation: There is no information to indicate that this species is threatened by disease or predation.

The inadequacy of existing regulatory mechanisms: The habitat of both known populations of this species is protected within a National Park and a Reserve. Although the species is not specifically protected under national law in Brazil, no threat has been identified for which such overarching protection is required.

Other natural or manmade factors affecting its continued existence: There is no information to indicate that any other natural or manmade factors are adversely affecting this species.

Therefore, we conclude that this species is not in danger of extinction or likely to become an endangered species within the foreseeable future throughout all or a significant portion of its range, and that listing of the grey-winged cotinga is no longer warranted.

Findings on Species for Which Listing Is Warranted but Precluded

Issuance of proposed listing rules for most of the warranted-but-precluded species, even those with the highest listing priority numbers (i.e., 1, 2, or 3) will continue to be precluded over the next year due to the need to complete pending proposals to determine if other species are endangered or threatened. Over the next year, we will work on final determinations for three African antelopes (scimitar-horned oryx [Oryx dammah], addax [Addax nasomaculatus], and dama gazelle [Gazella dama]); the Tibetan antelope (Pantholops hodgsonii); and the scarlet-chested parakeet (Neophema splendida) and turquoise parakeet (Neophema pulchella). We must also make the required 12-month petition findings on the Mexican bobcat (Lynx rufus escuinapae) and seven foreign butterfly taxa (Teinopalpus imperialis, Protographium marcellinus [previously referred to as Eurytides marcellinus], Mimoides lysithous harrisianus [previously referred to as Eurytides lysithous harrisianus], Parides ascanius, Parides hahneli, Troides [= Ornithoptera] meridionalis, and Pterourus esperanza [previously referred to as Papilio esperanza]).

In addition, we must meet our other statutory and treaty obligations. In determining the resources for listing warranted-but-precluded species, we must balance these needs with the resources needed for completing the other non-discretionary activities funded under the International Wildlife Trade budget component of the International Affairs program. This budget component includes not only all of these listing activities, but also issuing permits under the Act and mandatory activities for U.S. implementation of the Convention on International Trade in Endangered Species of Wild Fauna and Flora (CITES), the Wild Bird Conservation Act of 1992, certain permitting provisions of the Marine Mammal Protection Act, issuing Injurious Wildlife permits under the Lacey Act, and parts of the Pelly Amendment (section 8 of the Fisherman's Protective Act). Therefore, the resources available for listing actions under the Act for foreign species is limited by competing non-discretionary activities funded from the International Wildlife Trade budget.

Based on these considerations, we have determined that sufficient resources are available to proceed with the five highest-priority species, which were previously found to be warranted but precluded in our reviews (see “Findings on Species for which Listing is Warranted” below).

We have found that, for the following 51 species, listing continues to be warranted but precluded. As previously indicated, this means that immediate publication of a proposed rule to list the species is precluded by higher-priority listing actions, and that we are making expeditious progress to add and remove species from the List, as appropriate. We will continue to monitor the status of these species as new information becomes available. Our review of new information will determine if a change in status is warranted, including the need to emergency list any species.

Junin flightless grebe (Podiceps taczanowskii)

The Junin flightless grebe is confined to Lake Junin, which is located 4,080 m above sea level in central Peru (Fjeldsa 1981, as cited in O'Donnel and Fjedsa 1997). The lake, which covers approximately 14,320 hectares, reaches a depth of 10 m in its center and is bordered by extensive reed marshes. These reed marshes can be continuous in places, but also form a mosaic with stretches of open water. Considerable areas of the lake are shallow, with the bottom densely covered with Chara (del Hoyo et al. 1992). The Junin grebe is a bird of open lake habitat and stays far off-shore in the center of the lake for part of the year. However, during the breeding season, it goes to areas of tall Scirpus (californicus) tatora or bays and channels in the outer edge of the 2-5-km-wide reed marshes surrounding the lake (O'Donnel and Fjedsa 1997). The Junin grebe feeds mainly on fish (Orestias), which make up approximately 90% of its diet (del Hoyo et al. 1992).

The Junin grebe experienced a dramatic decline during the 20th Century. The species was considered abundant in 1938, and common in 1961, with estimates of several thousand birds (del Hoyo et al. 1992). Current population estimates for the Junin grebe are between 50 and 249 birds, with a decreasing population trend (BirdLife International 2000). Because of this decline, and because it is endemic to one Andean lake, the Junin grebe qualifies as Critically Endangered on the IUCN Red List (IUCN 2002). The decline in numbers of this species was brought about by pollution of Lake Junin by local mining activities and variations of up to 7 m in water level, which is controlled by a hydroelectric power station. These changes in water level caused nesting and foraging areas to dry out (BirdLife International 2000), and in 1969, the vegetation of Lake Junin appeared to be dyed yellow with breakdown products of sulphuric acids and toxic fumes from a copper mine (del Hoyo et al. 1992). Of less significance was the introduction of trout in the 1930s, which replaced native fish species. Since 1975, some conservation measures have been implemented: Lake Junin was declared a reserve, and the Peruvian government nationalized the mines of Cerro del Pasco in an attempt to prevent pollution by the mine (del Hoyo et al. 1992).

The Junin flightless grebe does not represent a monotypic genus. It faces threats that are high in magnitude and imminent. It therefore receives a priority rank of 2.

Fiji petrel (Pterodroma macgillivrayi)

The Fiji petrel is marine and presumably pelagic (del Hoyo et al. 1992). It was originally known from just one specimen collected in 1855 on Gau Island and more recently from eight records of sightings on the island since 1983 (BirdLife International 2000). The only other record is a reported sighting at sea over 200 km north of Gau (Watling 2000, as cited in BirdLife International 2000). The Fiji petrel's breeding grounds have yet to be discovered, but may be located in areas of undisturbed mature forest or on rocky, mountainous ground (del Hoyo et al. 1992). The Fiji petrel is classified as Critically Endangered by the IUCN because it is inferred, given the paucity of recent records, that there is only a tiny population confined to an extremely small breeding area (IUCN 2002). The population is estimated at fewer than 50 individuals and is assumed to be declining because of predation by cats, which may threaten its long-term survival (BirdLife International 2000). However, very little is known about the species. It is protected under Fijian law, and priorities for the species include conducting surveys on Gau and other suitable islands and reinforcing existing community awareness (BirdLife International 2000).

The Fiji petrel does not represent a monotypic genus. The magnitude of threat to the species is high, but the immediacy of threat is non-imminent. Therefore, it receives a priority rank of 5.

Chatham petrel (Pterodroma axillaris; Previously Referred to as Pterodroma hypoleuca axillaris)

The Chatham petrel is found only on South East Island (Rangatira) in the Chatham Islands of New Zealand (BirdLife International 2000). It is marine and presumably pelagic, and breeds on coastal lowlands and slopes in areas with low forest, bracken, or rank grass (del Hoyo et al. 1992). It nests in burrows amongst low vegetation and roots on flat to moderately sloping ground (Marchant and Higgins 1990). This species is classified as Critically Endangered in the 2002 IUCN Red List because it is restricted to South East Island and inferred to be continuing to decline due to competition from other native burrowing seabirds (IUCN 2002). The population estimate for this species is 800-1,000 birds with a decreasing population trend (BirdLife International 2000). There is intense competition for burrows on South East Island with the abundant broad-billed prion (Pachyptila vittata), which may be the cause of the observed low breeding success and high rate of pair bond disruption (ibid.). As a conservation measure, artificial nest sites have been provided, and burrows have been blocked to prevent occupation by P. vittata (ibid.). Although these actions have greatly improved breeding success, only a small proportion of breeding burrows have been found (Taylor 2000).

This species does not represent a monotypic genus. It has a restricted range and its population is declining. The threat to the species is high and imminent. Therefore, this species receives a priority rank of 2.

Cook's petrel (Pterodroma cookii)

Cook's petrel is endemic to New Zealand. It is marine and highly pelagic in temperate and subtropical waters, and rarely approaches land except at nesting colonies (del Hoyo et al. 1992). Cook's petrel breeds on Little Barrier, Great Barrier, and Codfish Islands (del Hoyo et al. 1992) and occupies thickly forested high ridges and slopes, up to 700 m above sea level (BirdLife International 2000). This species is classified as Endangered in the 2002 IUCN Red List because it has a very small range when breeding, and although population numbers are increasing, there is a danger that the population on Great Barrier Island may be lost (IUCN 2002). Population estimate for this species is 100,000 birds and increasing (BirdLife International 2000). Threats to this species are predominantly from invasive species such as cats, black rats (Rattus rattus), Pacific rats (R. exulans), and the weka (Gallirallus australis), which are major predators of adults and chicks (Heather and Robertson 1997; Taylor 2000). By 1980, cats were eradicated from Little Barrier Island, and wekas were eradicated from Codfish Island between 1980 and 1985 (Taylor 2000). Pacific rats were successfully eradicated from Codfish Island in August 1998, and eradication from Little Barrier Island has been proposed (Conservation News 2002).

This species does not represent a monotypic genus, and has a fairly good population size, which is increasing. Its primary threat is a limited breeding range and predation by introduced species. However, the threats have been reduced by eradication of introduced predators, which is ongoing. Therefore, the threat is moderate and imminent, and the species receives a priority ranking of 8.

Galapagos petrel (Pterodroma phaeopygia; Previously Referred to as Pterodroma phaeopygia phaeopygia)

The Galapagos petrel is a pelagic marine bird endemic to the Galapagos Islands, Ecuador (BirdLife International 2000). It breeds on Santa Cruz, Floreana, Santiago, San Cristobal, Isabela, and possibly other islands in the archipelago (Cruz and Cruz 1987; H. Vargas and F. Cruz in litt. 2000, as cited in BirdLife International 2000). This species is classified as Critically Endangered in the 2002 IUCN Red List because of its history of declines (IUCN 2002). In the early 1980s, this species underwent extremely rapid declines, in some cases by as much as 81 percent in 4 years, and the species is likely to have declined by more than 80 percent in the last 60 years (three generations) (ibid.). The population estimate for this species is 20,000-60,000 birds with a decreasing population trend (BirdLife International 2000). Threats for this species include introduced dogs, cats, and pigs, which take eggs, young, and adults; black rats and brown rats (R. norvegicus), which take eggs and chicks; nest-site destruction by goats, donkeys, cattle, and horses; and predation by the Galapagos hawk (Buteo galapagoensis) (Cruz and Cruz 1987; Cruz and Cruz 1996). Predator control and petrel monitoring is occurring on Floreana, Santa Cruz, and Santiago Islands (H. Vargus and F. Cruz in litt. 2000, as cited in BirdLife International 2000). The breeding areas on Santa Cruz, Floreana, and San Cristobal have been severely restricted due to clearance of vegetation for agriculture and intensive grazing (Cruz and Cruz 1987; Cruz and Cruz 1996), and at least half the breeding range is still farmed on Santa Cruz (Baker 1980, as cited in BirdLife International 2000). The Galapagos Islands are a national park and were declared a World Heritage Site in 1979 (BirdLife International 2000).

This species does not represent a monotypic genus, but it is declining and has persistent threats that are high in magnitude and imminent. Therefore, this species receives a priority rank of 2.

Magenta petrel (Pterodroma magentae)

The magenta petrel is known from Chatham Island, New Zealand. It breeds in a fragmented colony under dense forest (BirdLife International 2000) and is marine and presumably pelagic (del Hoyo et al. 1992). The magenta petrel was rediscovered in 1978 after 10 years of intensive searching (Crockett 1994, as cited in BirdLife International 2000). This species is listed as Critically Endangered by IUCN because it has undergone a historic decline that is assumed to be greater than 80 percent in 60 years, it has a very small population, and it is restricted to one extremely small location (IUCN 2002). The population is estimated to number 100-150 individuals, and the long-term reduction in numbers may have begun to stabilize (BirdLife International 2000). However, it is premature to assume that there is not a continuing decline. The species is predominantly threatened by introduced species that take eggs, chicks, and adults, or compete for or cause the destruction of burrows (BirdLife International 2000).

The magenta petrel does not represent a monotypic genus. The magnitude of threat to the species is high, and the immediacy is imminent. It therefore receives a priority rank of 2.

Heinroth's shearwater (Puffinus heinrothi)

The Heinroth's shearwater is known from the Bismarck Archipelago and around Bougainville in Papua New Guinea and Kolombangara in the Solomon Islands (Buckingham et. al. 1995, as cited in BirdLife International 2000). It is marine and presumably pelagic (del Hoyo et al. 1992). It is likely to breed on high, inaccessible mountains, where introduced rats, cats, and dogs are potential threats to this species. There are a number of target actions identified for this species by BirdLife International, which include various surveys and assessing the presence of introduced mammals on suspected breeding grounds (BirdLife International 2000). The Heinroth's shearwater is categorized as Vulnerable by the IUCN on the basis that there may be a very small population and breeding range (IUCN 2002). The population estimate for this species is 250-999 birds with an unknown population trend (BirdLife International 2000). There is no substantial evidence of a decline (IUCN 2002).

Heinroth's shearwater does not represent a monotypic genus. It faces threats that are moderate and non-imminent. Therefore, it receives a priority rank of 11.

Greater adjutant stork (Leptoptilos dubius)

The greater adjutant stork previously occurred, often in huge numbers, in much of South and Southeast Asia, from Pakistan through northern India, Nepal, and Bangladesh, to Myanmar, Thailand, Laos, Viet Nam, and Cambodia (BirdLife International 2000). However, the species has experienced a dramatic crash, and currently, the population estimate is at 700-800 birds (BirdLife International 2000). Breeding populations of the species remain in only two very small and highly disjunct populations: One in Assam (Saikia and Bhattacharjee 1989, as cited in BirdLife International 2001) and the other in Cambodia (Mundkur et al. 1995, as cited in BirdLife International 2001). In the last century, there were vast colonies of millions in Burma, and del Hoyo et al. (1992) indicate that in Calcutta there was “almost one on every roof.” It frequents marshes, lakes, paddyfields, and open forest, and is often found in dry areas, such as grasslands and fields. It is commonly found at carcasses and rubbish dumps at the edges of towns.

The greater adjutant is classified as Endangered in the 2002 IUCN Red List. The key threats are direct exploitation, particularly at nesting colonies, habitat destruction, particularly lowland deforestation and the felling of nest trees, and drainage, conversion, pollution, and over-exploitation of wetlands. The Indian population is also considered threatened by the reduced use of open rubbish dumps for the disposal of carcasses and foodstuffs (BirdLife International 2000).

The greater adjutant stork does not represent a monotypic genus, but it faces threats that are high in magnitude and imminent. It therefore receives a priority rank of 2.

Andean flamingo (Phoenicopterus andinus)

The Andean flamingo is restricted to high-altitude salt lakes in the high Andes, mainly between 3,500 and 4,500 m, from southern Peru through Bolivia to northern Chile and northwestern Argentina (del Hoyo et al. 1992). Population assessments for this species are difficult and vary greatly, but it is believed that 50,000-100,000 individuals existed until the mid-1980s. The collection of eggs to sell as food was intensive during the mid-20th Century and early 1980s, with estimates of thousands of eggs being taken. Unfavorable water levels due to weather and manipulation, mining activities, erosion of nest sites, and human disturbance may also affect productivity. The latest population estimate, from 1997, was 33,927 birds, which suggests the species had declined rapidly during the preceding 10-15 years (BirdLife International 2000). Very low breeding success has been reported for this species (del Hoyo et al. 1992). The Andean flamingo was recently categorized as Vulnerable by the IUCN and is listed in Appendix II of CITES. Threats to this species include ongoing exploitation and a decline in habitat quality (IUCN 2002). Local conservation actions include habitat management, prevention of egg-collecting, and raising public awareness (BirdLife International 2000).

The Andean flamingo does not represent a monotypic genus. It faces threats that are high in magnitude and imminent. It therefore receives a priority rank of 2.

Brazilian merganser (Mergus octosetaceus)

The Brazilian Merganser is found in extremely low numbers at a few, highly disjunct localities in south-central Brazil (BirdLife International 2000). Its range also extends into eastern Paraguay and northeastern Argentina. It is found in rapid, torrential streams and fast-moving rivers surrounded by dense tropical forests. The species is believed to be mainly sedentary and presumably maintains its territory all year round (del Hoyo et al. 1992). The Brazilian merganser is a good swimmer and diver, and feeds primarily on fish and occasionally on aquatic insects and snails (Collar et al. 1992).

Recent records from Brazil, and particularly a recent northerly range extension, indicate that the status of this species is better than previously thought (BirdLife International 2000). However, it remains close to extinction and is considered Critically Endangered (IUCN 2002). The population is currently estimated at 50-249 individuals and is decreasing (BirdLife International 2000). Threats include the perturbation and pollution of rivers, which result predominately from deforestation, agriculture, and diamond mining in the Serra da Canastra area. Dam-building has flooded suitable habitat, especially in Brazil and Paraguay, and hunting and collection of exhibition specimens in Argentina are considered contributory factors to this species' decline (BirdLife International 2000). The Brazilian merganser is considered extinct in Mato Grosso do Sul, Rio de Janeiro, Sao Paolo, and Santa Catarina (ibid.). There is only one recent record from Misiones, Argentina (Benstead 1994; Hearn 1994, as cited in Collar et al. 1994), and it was last recorded in Paraguay in 1984 (BirdLife International 2001). There is little, if any, habitat left (Brooks et al. 1993, as cited in Collar et al. 1994). This species is legally protected in Brazil, where it occurs in three Brazilian national parks (del Hoyo et al. 1992).

This species does not represent a monotypic genus, but it faces threats that are high in magnitude and imminent. It therefore receives a priority rank of 2.

Cauca guan (Penelope perspicax)

The cauca guan is endemic to the west slopes of the West and Central Andes (Risaralda, Quindio, Valle del Cauca, and Cauca), Colombia (Collar et al. 1992). The stronghold for the species is in the Ucumari Regional Park, Risaralda (BirdLife International 2000). The Cauca guan inhabits large, humid primary forests at 1,600-2,150m (Salaman in litt. 1999, as cited in BirdLife International 2000). Records at 900-1,600m have been from plantations of exotic broadleaf trees, secondary forest, and forest edge (BirdLife International 2000). This species was not considered uncommon at the beginning of the 20th Century, but has suffered from severe loss of habitat (del Hoyo et al. 1994). The current population estimates is 1,000-2,499 individuals with a decreasing trend (BirdLife International 2000). It is also hunted for food even in some protected areas, except in Ucumari (ibid.). It is listed as Endangered by IUCN because it has a very small range in which severely fragmented habitat patches are declining (IUCN 2002). Its population is believed to be very small and divided into extremely small sub-populations, which are inferred to be declining from ongoing habitat loss and hunting (ibid.).

This species does not represent a monotypic genus, but faces threats that are high in magnitude and imminent. This species therefore receives a priority rank of 2.

Southern helmeted curassow (Pauxi unicornis)

The southern helmeted curassow is known from central Bolivia and central and eastern Peru, where it inhabits dense, humid, lower montane forest and adjacent evergreen forest at 450-1,200m (BirdLife International, 2000). The fallen nuts of the almendrillo (Bryrsonima wadsworthii) constitute this species' major food, and it presumably also takes other fallen fruits, including those from three types of laurels and negrillo (del Hoyo et al. 1994). The southern helmeted curassow is listed as Vulnerable on the IUCN Red List, and the population is estimated at fewer than 10,000 birds, with a decreasing population trend (BirdLife International 2000). In Bolivia, professional hunters have caused a decline in the population. In addition, local people in the area fashion cigarette lighters from the curassow's horn, or casque (Cordier 1971, as cited in Collar et al. 1992). In Amboro National Park, the bird is often eaten and its head skewered for use in folk dances (Hardy 1984, as cited in Collar et al. 1992). Other threats include forest clearing within its range, road building and development, and in Peru, oil exploration (BirdLife International 2000). Large parts of the southern helmeted curassow's range are protected by inclusion in the Amboro and Carrasco National Parks. Further work in the low Andean foothills and outlying ridges in the region of the Peru-Bolivia border is likely to reveal new populations (Collar et al. 1992). Discovery of new populations, as well as increased protections in Bolivian national parks and other specific measures to conserve the species, could lead to future reclassification (IUCN 2002).

The southern helmeted currasow does not represent a monotypic genus. It faces threats that are moderate in magnitude and imminent. Therefore, it receives a priority rank of 8.

Blue-billed curassow (Crax alberti)

The blue-billed curassow historically occurred in northern Colombia, from the base of the Sierra Nevada de Santa Marta west to the Sinu Valley and south in Magdalena Valley to north Tolima (BirdLife International 2000). It inhabits humid forest in lowlands and foothills and on lower mountain slopes in the tropical zone. This species of curassow occurs up to 1,200 m, but is more common below 600 m (del Hoyo et al. 1994). It feeds on fruit, shoots, invertebrates, and possibly carrion (BirdLife International 2000).

The blue-billed curassow is categorized as Critically Endangered in the 2002 IUCN Red List and is listed in Appendix III of CITES by Colombia. The species was not common anywhere in the Santa Marta region at the beginning of the 20th Century, although it was perhaps most numerous in the humid lowlands of the north coast (Todd and Carriker 1922, as cited in Collar et al. 1992). It was becoming very rare (Haffner 1975, as cited in Collar et al. 1992), and by the 1980s it had disappeared from most places in which it had previously been found (Estudillo Lopez 1986, as cited in Collar et al. 1992). The population was estimated at 1,000-2,500 birds in 1994, and local reports have indicated more recent and rapid declines (BirdLife International 2000). Previous reports indicated that, outside of a few forest patches bordering national parks, the species is almost extinct (L.M. Renjifo, Z. Calle, D. Rodriguez personal communications, as cited in Brooks and Strahl 2000). However, some sites believed to harbor the species have been recently identified in work supported by the World Pheasant Association International (Cuervo and Salaman 1999, as cited in Brooks and Strahl 2000). Rapid deforestation in this species' range over the past decade has left little habitat. Given increased access and hunting, this curassow could undergo an extremely rapid population reduction (BirdLife International 2000). The blue-billed curassow is perhaps one of the most endangered species identified as an immediate conservation priority by the Cracid Specialist Group (Brooks and Strahl 2000). Recent international trade in this bird may be cause for alarm (J. V. Rodriguez personal communication, as cited in Brooks and Strahl 2000).

The blue-billed currasow does not represent a monotypic genus. It faces threats that are high in magnitude and imminent, and therefore it receives a priority rank of 2.

Cantabrian capercaillie (Tetrao urogallus cantabricus)

The Cantabrian capercaillie inhabits the Cantabrian Mountains of northern Spain (Storch 2000). It occupies a forest and woodland habitat that is mainly coniferous (especially Pinus sylvestris), but also contains species such as Piscea and Abies and isolated broad-leaved forests (BirdLife International 2000). It prefers extensive areas of old, shady forest, often with damp soil and interspersed bogs, areas of peat or glades, and a dense undergrowth of ericaceous plants (ibid.). It is currently treated as a subspecies of the western capercaillie Tertrao urogallus, which is not globally threatened. However, the subspecies cantabricus was considered to be endangered in the Red Data Book of 1978-1979 (Storch 2000; BirdLife International 2000). The population is presently estimated at 250-300 adult males, equivalent to a total population size of fewer than 1,000, but it is probably only 600-750 birds (A. Lucio personal communication, as cited by Storch 2000). The Cantabrian Capercaillie Group estimates that numbers have declined by 25-50 percent over the past 10-15 years (Storch 2000). Habitat loss, fragmentation, and degradation related to forestry and tourism, illegal hunting, and disturbance by human outdoor activities have been identified as the major causes of decline (J. Castroviejo, personal communication, as cited by Storch 2000).

This is a subspecies that faces threats that are high in magnitude and imminent. It receives a priority rank of 3.

Gorgeted wood-quail (Odontophorus strophium)

The gorgeted wood-quail occurs on the west slope of the east Andes of Colombia in Santander and Cundinamarca (Collar et al. 1992). It is found on the forest floor of temperate and subtropical forests at 1,500-2,050 m, especially those dominated by Quercus humboldtii (del Hoyo et al. 1994). The gorgeted wood-quail is probably dependent on primary forest for at least part of its life cycle, although it has been recorded in degraded habitats and secondary forest (BirdLife International 2000). Since the 17th Century, the west slope of the East Andes has been extensively logged and converted to agriculture (Stiles et al. 1999). Forest loss below 2,500 m has been almost complete (Stattersfield et al. 1998), with habitat reduced in many areas to tiny, isolated relicts on steep slopes and along streams (Stiles et al. 1999). This species is considered Critically Endangered by IUCN because it has an extremely small range (IUCN 2002). The population is estimated to be 250-999 individuals and declining (BirdLife International 2000). Additionally, until 1923, it was known only from Cundinamarca, but recent records have come from one of the only remaining areas of suitable habitat around Virolin in Santander Department, where logging and hunting are prevalent (Collar et al. 1992). Some habitat regeneration has occurred following the abandonment of marginal land (ibid.). Less disturbed and ornithologically unknown forests in west Boyaca and Santander might retain populations of this species (BirdLife International 2000). In November 1993, 100 km² of forest at Virolin was gazetted as a reserve, the Guanenta—Alto Rio Fonce Flora and Fauna Sanctuary (Andrade and Repizzo 1994), which provides some protection.

This species does not represent a monotypic genus. The threat to the species is high in magnitude and imminent. It receives a priority rank of 2.

Junin rail (Laterallus tuerosi)

The Junin rail is endemic to the Andean Highlands of central Peru along the shores of Lago de Junin (BirdLife International 2000). It is known to inhabit the rushy marsh vegetation bordering the lake, but details on habitat preference are lacking (Fjeldsa 1983, as cited in Collar et al. 1992). These secretive birds have been seen in areas that contain mosaics of small beds of 1-m-tall Juncus andecolus and open areas with bottom mosses and herbs (ibid). This species is classified as Endangered in the 2002 IUCN Red List because it has a very small range around a single lake where habitat quality is declining (IUCN 2002). The population estimate for this species is 1,000-2,499 birds, with a decreasing population trend (BirdLife International 2000). Since 1955, Lago de Junin has been affected by pollution and human-induced water-level changes, which may be adversely affecting the fringe vegetation (J. Fjeldsa 1987 personal communication, as cited in Collar et al. 1992). Reed marshes have also been dessicated from drought and unsustainable water management by Electro Peru and occasional flooding with highly acidic water from the Cerro de Pasco mines (J. Fjeldsa in litt. to Taylor and van Perlo 1998, as cited in BirdLife International 2000). Although the lake is a national reserve, this has not influenced mining and dam-building activities.

The Junin rail does not represent a monotypic genus. It faces threats that are high and imminent. It therefore receives a priority rank of 2.

Bogota rail (Rallus semiplumbeus)

The Bogota rail is found in the East Andes of Colombia on the Ubate-Bogota Plateau in Cundinamarca and Boyaca. It occurs in the temperate zone, at 2,500-4,000 m (occasionally as low as 2,100 m) in savanna and paramo marshes (BirdLife International 2000). This rail frequents wetland habitats that are fringed by dense, tall reeds and bulrushes, and contain vegetation-rich shallows. It often feeds along the water's edge, in flooded pasture, wet fen, or within patches of dead water-logged vegetation nearby (Varty et al. 1986; Fjeldsa and Krabbe 1990). It feeds primarily on aquatic invertebrates and insect larvae, but also takes worms, molluscs, dead fish, frogs, tadpoles, and plant material (Varty et al. 1986).

This species is listed as Endangered by the IUCN primarily because its range is very small and contracting, in part due to local extirpations. The population has become severely fragmented and is declining for a variety of reasons, including habitat loss and degradation (IUCN 2002). The current population is estimated to be between 1,000 and 2,499 individuals and is decreasing (BirdLife International 2000). Although the Bogota rail is declining, it is still uncommon to fairly common, with some notable populations, including approximately 400 birds at Laguna de Tota, about 50 territories at Laguna de la Herrera, about 110 birds at Parque La Florida, and those at La Conejera marsh and Laguna de Fuquene (BirdLife International 2000). Some of the birds occur in protected areas such as Chingaza National Park and Carpanta Biological Reserve. However, savanna wetlands are virtually unprotected.

The Bogota rail does not represent a monotypic genus. It is subject to threats that are moderate in magnitude and imminent. Therefore, it receives a priority rank of 8.

Takahe (Porphyrio mantelli; Previously Referred to as Notornis mantelli)

The takahe is endemic to New Zealand and is unique as the world's largest living member of the rail family (del Hoyo et al. 1996). The species, Porphyrio mantelli, is the remnant of the South Island population resulting from speciation. The North Island species Porphyrio hochstetteri, which was taller and thinner boned, is extinct (TerraNature Trust 2003). Subfossils show that this bird was once widespread in the North and South Islands. However, when this species was rediscovered in 1948, it was confined to the Murchison Mountains in Fiordland (BirdLife International 2000). It is restricted to alpine tussock grasslands on the mainland and feeds primarily on juices from the bases of snow tussock and the rhizome of a fern species (ibid.). The takahe is listed as Endangered by the IUCN because it has an extremely small population (IUCN 2002). The main cause of the species' decline was competition for food from the introduced red deer, Cervus elaphus, which also modified habitat by grazing (del Hoyo et al. 1996). It may also be affected by predation by stoats, Mustela erminea (BirdLife International 2000). Other potential competitors or predators include the introduced brush-tailed possum, Trichosurus vulpecula, and the threatened weka, Gallirallus australis (New Zealand Department of Conservation 1997). For the last 20 years, the population has fluctuated between 100 and 160 birds (Maxwell in press, as cited in BirdLife International 2000). Populations have been established on four predator-free offshore islands—Kapiti, Mana, Tiritiri Matangi, and Maud—from birds translocated between 1984 and 1991 (BirdLife International 2000). Overall, numbers are slowly increasing due to intensive management of these island populations, although there are fluctuations in the remnant mainland population (IUCN 2002). Since the 1960s, deer have also been controlled in the Murchison Mountains (BirdLife International 2000).

The takahe does not represent a monotypic genus. It faces threats that are moderate in magnitude and imminent. Therefore, it receives a priority rank of 8.

Chatham oystercatcher (Haematopus chathamensis)

The Chatham oystercatcher is endemic to the Chatham Islands, New Zealand (BirdLife International 2000). It is mostly found on rocky shores, less often on sandy or gravel beaches, and sometimes nests in sites with some short vegetation (del Hoyo et al.1996). This species is classified as Endangered in the 2002 IUCN Red List because it has a very small population (IUCN 2002). The Chatham oystercatcher population has increased from approximately 50 birds in the early 1970s to 100-110 birds in the breeding season of 1987-1988, which included 44 breeding pairs (del Hoyo et al. 1996). A census conducted in 1998 revealed 140-150 birds, which represented a significant increase (BirdLife International 2000). However, numbers of birds on South East Island appear to have gradually declined since the 1970s (Schmechel and O'Connor 1999, as cited in BirdLife International 2000). Introduced predators, as well as cattle and sheep, are a major threat on Pitt and Chatham Islands (BirdLife International 2000). South East and Mangere are free of mammalian predators, but populations are highly variable, and the causes of the decline occurring on South East Island are unknown (Schmechel and O'Connor 1999, as cited in BirdLife International 2000). The birds on the Chatham Islands are protected through active management. Nest manipulation, fencing, signage, intensive predator control, and a research program aimed at assessing the effects of predators, flooding, and management on breeding success have been initiated (BirdLife International 2000).

The Chatham oystercatcher does not represent a monotypic genus. It faces threats that are moderate in magnitude and imminent, and therefore it receives a priority rank of 8.

Jerdon's courser (Rhinoptilus bitorquatus; previously referred to as Cursorius bitorquatus)

Jerdon's courser is endemic to southern India, where it is principally known from southern Andhra Pradesh, from the Godaveri River Valley near Sironcha and Bhadrachalam, and from the Cuddapah and Anantapur areas in the valley of the Pennar River (Ripley and Beehler 1989; Ali and Ripley 1968-1998, as cited in BirdLife International 2001). It is found in sparse, thorny and non-thorny scrub-forest and bushes, interspersed with patches of bare ground, in gently undulating rocky foothills (BirdLife International 2000). Historically, it was known from just a few records in the Pennar and Godavari river valleys and was assumed to be extinct until 1986, when it was rediscovered around Lankamalai.

Jerdon's courser is listed as Critically Endangered by the IUCN because of its single small, declining population. It is thought to be threatened by exploitation of the scrub-forest, livestock grazing, disturbance, and quarrying (IUCN 2002). The population estimate for this species is 50-249 birds, with a decreasing population trend (BirdLife International 2000). Very few individuals have been recorded so far, mainly due to its nocturnal, shy, and retiring habits (ibid.). Between 1986 and 1995, there have been eight sightings of the species in the Lankamalai area (Bhushan 1995, as cited in BirdLife International 2001). However, it may occur in much higher densities than currently known (BirdLife International 2001). Members of the Yanaadi community, who played a major role in the rediscovery of the species, were employed by the State Forest Department to locate individuals in other localities and habitats in the Eastern Ghats, but the results are unknown (Bhushan 1995, as cited in BirdLife International 2001).

Jerdon's courser does not represent a monotypic genus. The current threat to the species is high and imminent, and therefore, it receives a priority rank of 2.

Slender-billed curlew (Numenius tenuirostris)

The slender-billed curlew migrates along a west-southwest route from Siberia through central and eastern Europe (predominantly Russia, Kazakhstan, Ukraine, Bulgaria, Hungary, Romania, and Yugoslavia) to southern Europe (Greece, Italy, and Turkey) and northern Africa (Algeria, Morocco, and Tunisia) (BirdLife International 2000). Breeding has only been confirmed near Tara, north of Omsk, in Siberia, Russia, between 1914 and 1924; there have been no breeding records since 1925 (del Hoyo et al. 1996). The only known nests were recorded on the northern limit of the forest—steppe zone in habitat more typical of taiga marsh (BirdLife International 2000). During migration and winter, a wide variety of habitats are used, including steppe grassland, marshland, salt pans, brackish lagoons and wetlands, tidal mudflats, fish ponds, semi-desert, and sandy farmland next to lagoons (ibid.).

During the 19th Century, the slender-billed curlew was regarded as very common (BirdLife International 2000), but declined dramatically in the 20th Century. It is considered Critically Endangered by the IUCN because it has an extremely small population and the number of birds recorded annually continues to decrease (IUCN 2002). This species is also listed in CITES Appendix I. Flocks of over 100 birds were recorded from Morocco as late as the 1960s and 1970s (BirdLife International 2000). However, between 1980 and 1990, there were only 103 records involving 316-326 birds, and from 1990 to 1999, this dropped to 74 records involving 148-152 birds (ibid.). Most recent records are of 1-3 birds, with the exception of a flock of 19 birds in Italy in 1995. In 1994, the population was estimated at only 50-270 birds, but records suggest it may now be lower. Threats to the breeding grounds are unknown (BirdLife International 2000), although it has recently been suggested that the main breeding areas may have been located in the steppe zone, which has been cultivated on a large scale, perhaps explaining the rapid decline of the species (del Hoyo et al. 1996). Historically, hunting was high and may have been a key factor in the species' historical decline (BirdLife International 2000). Wetlands in North Africa and the Mediterranean, and potentially important areas in Iraq, have been extensively drained (ibid.).

The slender-billed curlew does not represent a monotypic genus. The magnitude of threat to the species is high, but non-imminent. Therefore, the priority rank for this species is 5.

Marquesan imperial-pigeon (Ducula galeata)

The Marquesan imperial-pigeon is endemic to Nuku Hiva in the Marquesas Islands, French Polynesia. It is restricted to valleys in remote wooded valleys from 250 to1,300 m elevation in the west and north of the island. It is also seen in secondary forest and at the edge of banana and orange plantations (BirdLife International 2002). The Marquesan imperial-pigeon is categorized as Critically Endangered in the 2002 IUCN Red List because it has a very small population on one tiny island (IUCN 2002). Illegal hunting is the main threat, and the species' habitat has been modified and degraded by introduced vegetation and grazing from feral livestock (BirdLife International 2002). In 1975, the population was estimated at 200-400 birds by Holyoak and Thibault (1984), and in 1998, a minimum of 85 birds was seen and the population was estimated at about 250 birds (Evva 1998). The Marquesan imperial-pigeon survives because it exists in several areas that are difficult to access by hunters and introduced grazers, and that have not been colonized by rats (IUCN 2002).

The Marquesan imperial-pigeon is a species that does not represent a monotypic genus. It faces threats that are of high magnitude and imminent. Therefore, it receives a priority rank of 2.

Salmon-crested cockatoo (Cacatua moluccensis)

The salmon-crested cockatoo is found, and perhaps endemic to, Seram in the South Moluccas, Indonesia, with records from the adjacent islands of Haruku, Saparua, and Ambon. There is some speculation that records from locales other than Seram might all relate to birds of captive origin (BirdLife International 2001). Lowland rain forest below altitudes of 1,000 m and unlogged lowland forest below 300 m are clearly the most productive habitat (Marsden 1998). Studies conducted in 1998 suggested that habitat rich in strangler fig trees and the key nest tree, Octomeles sumatranus, holds the highest densities of cockatoos, but this needs confirmation (Kinnaird et al. in prep., as cited in BirdLife International 2000). The diet of salmon-crested cockatoos consists of seeds, nuts (including coconuts), berries, and insects and their larvae (Forshaw 1989).

The salmon-crested cockatoo was formerly a common species of the lowlands within its range (del Hoyo et al. 1997). There are no recent records from Saparua and Haruku, and it may only survive at one locality on Ambon, which leaves almost the entire population on Seram in the Manusela National Park (BirdLife International 2000). This species is one of three threatened members of the suite of 14 bird species that are entirely restricted to the Seram Endemic Bird Area (BirdLife International 2001). It is listed as Vulnerable in the IUCN 2002 Red List (IUCN 2002), and current populations are estimated as fewer than 10,000 individuals and decreasing (BirdLife International 2000).

By the 1980s, the species was being extensively and unsustainably trapped for the cage-bird market (BirdLife International 2000) and was placed on CITES Appendix II in 1981. It was estimated that 74,509 individuals were exported from Indonesia between 1981 and 1990 (BirdLife International 2000). Imports from Indonesia between 1983 and 1988, as reported to CITES, averaged 9,571 per year (Marsden 1995, as cited in BirdLife International 2001), and allowing for unrecorded international trade, domestic trade, and mortality, it is estimated that at least 10,000 birds were being taken on Seram annually in the 1980s (Kinnaird et al. [in prep.], as cited in BirdLife International 2001). In October 1989, the salmon-crested cockatoo was transferred to CITES Appendix I. This listing resulted in a rapid drop to zero in officially traded birds, but the domestic consumption of the species remained high (BirdLife International 2001). Extrapolation from figures obtained by interviews in villages suggests that possibly thousands of birds (perhaps as many as 4,000, or 6.4 percent of the current estimated total) are still being captured each year (Kinnaird 1999, as cited in BirdLife International 2001). Forest loss, degradation, and fragmentation from timber extraction, settlement, and hydroelectric projects pose the other major threats. A program to raise local awareness, linked with the promotion of ecotourism, has recently been launched (BirdLife International 2000).

The salmon-crested cockatoo does not represent a monotypic genus. It faces threats that are high in magnitude and imminent, and therefore it receives a priority rank of 2.

Orange-fronted parakeet (Cyanoramphus malherbi)

The orange-fronted parakeet was treated as a species until it was first proposed as a color morph of C. auriceps in 1974 (Holyoak 1974, as cited in Snyder et al. 2000). However, recent analysis has led to the suggestion that it should again be considered a distinct species (Triggs and Daugherty 1996). It is only known from two valleys on the South Island of New Zealand: the South Branch Hurunui River valley and the Hawdon River valley. Historically, it was once present on the North, most of the South, and Stewart Islands (BirdLife International 2000). This species is restricted to southern beech (Nothofagus spp.) forest (BirdLife International 2000), with a preference for areas bordering stands of mountain beech (N. solandri) (Snyder et al. 2000). It requires mature trees with natural hollows or cavities for nesting, and breeding of the species is linked with the irregular seed production by Nothofagus (BirdLife International 2000).

The orange-fronted parakeet has an extremely small population and limited range. There have only been a few sightings since 1966 (Triggs and Daugherty 1996), and previous assessments of its status have ranged from more common than originally thought (Harrison 1970) to close to extinction (Mills and Williams 1980). It is classified as Endangered in the 2002 IUCN Red List and is listed in Appendix II of CITES. The population is estimated at 200-500 individuals and declining (BirdLife International 2000). The primary cause of decline is likely to be predation by stoats (Mustela erminea) and rats (Rattus spp.) (BirdLife International 2000). Hybridization with yellow-crowned parakeets (C. auriceps) has been observed at Lake Sumner (Snyder et al. 2000). Existing captive stocks also show signs of interbreeding with C. auriceps and should not be considered for any conservation action in the future (Triggs and Daugherty 1996). Monitoring and conservation of this species is problematic given the difficulty in separating it from C. auriceps (BirdLife International 2000).

The orange-fronted parakeet does not represent a monotypic genus. It faces threats that are high but non-imminent. Therefore, it receives a priority rank of 5.

Uvea parakeet (Eunymphicus uvaensis; Previously Referred to as Eunymphicus cornutus uvaeensis)

The Uvea parakeet is restricted to Uvea, New Caledonia. It was recently split from the horned parakeet E. cornutus on the basis of morphological and biochemical differences (O. Robinet in litt. 1999, as cited in BirdLife International 2000). It is found primarily in forest habitat, notably, those dominated by Agathis—Araucaria and general woodlands, and feeds on the berries of vines and the flowers and seeds of various trees and shrubs (del Hoyo et al. 1997). It is restricted to areas of old-growth forest with nesting holes, but highest numbers occur close to gardens with papayas (BirdLife International 2000).

Early population estimates were alarmingly low for the Uvea parakeet, 70-90 birds and declining (Hahn 1993), but surveys yielded estimates of approximately 600 birds in 1993 and 750 birds in 1998 (P. Primot, in litt. 1999, as cited in BirdLife International 2000). It is classified as Endangered in the 2002 IUCN Red List because it occurs in a very small, declining area of forest on one small island (IUCN 2002). It was listed in Appendix I of CITES in July 2000, and had been previously listed in Appendix II. Habitat destruction in the last 30 years has caused a 30-50 percent decline in primary forest. Threats also include an ongoing illicit pet trade, mostly for the domestic market. Nesting holes are cut open to extract nestlings, which make them unsuitable for future breeding. The lack of nesting sites is believed to be a limiting factor for the species (BirdLife International 2000). Juveniles may be taken by predators such as the native brown goshawk (Accipiter fasciatus). Introductions to the adjacent island of Lifou in 1925 and 1963 failed (BirdLife International 2000), possibly due to the presence of ship and Norwegian rats (Rattus norvegicus) (Snyder et al. 2000).

A recovery plan for the Uvea parakeet was prepared for the period 1997-2002, which included strong local participation in population and habitat monitoring (Snyder et al. 2000). It is becoming well known and celebrated as an island emblem (Robinet and Salas 1997). Illegal trade is being successfully addressed by increased awareness and law enforcement. A captive-breeding program was initiated in 1998 to restock the south of Uvea. Measures are being taken to control predators and prevent colonization by rats (BirdLife International 2000). Current population numbers are increasing, but any relaxation of current conservation efforts or introduction of rats could lead to a rapid decline of the species (IUCN 2002).

The Uvea parakeet does not represent a monotypic genus. It faces threats that are moderate and imminent, and therefore receives a priority rank of 8.

Blue-throated macaw (Ara glaucogularis)

The blue-throated macaw is endemic to forest islands in the seasonally flooded Beni Lowlands (Lanos de Moxos) of Central Bolivia (Jordan and Munn 1993). It inhabits a mosaic of seasonally inundated savanna, palm-groves, forest islands, and possibly humid lowlands. This species is found in areas where there is an availability of palm-fruit food, especially Attalea phalerata (Hesse 1998, as cited in BirdLife International 2000). The region it inhabits lies at elevations between 200 and 250 m (BirdLife International 2000). The species has not been seen congregating in large flocks, and is most commonly seen traveling in pairs, and on rare occasions may be found in small flocks of up to five individuals (Collar et al. 1992). The blue-throated macaw nests between November and March in cavities within large trees where one to two young are raised (BirdLife International 2000).

The taxonomic status of this species was disputed for a long time, primarily because it was unknown in the wild to biologists until 1992 (del Hoyo et al. 1997). However, trappers apparently discovered these birds sometime in the late 1970s or early 1980s. Between the early 1980s and early 1990s, approximately 400-1,200 birds were exported from Bolivia, and many are now in captivity in the European Union and in North America (World Parrot Trust 2003). This species is severely threatened by past trapping for the national and international cage-bird trade. Recent estimates indicate that there are between 75 and 150 individuals in the wild (Snyder et al. 2000). It is categorized as Critically Endangered in the 2002 IUCN Red List and is listed in Appendix I of CITES. Trapping for the pet trade could still be a problem today, although some protection for known populations is in place. The Eco Bolivia Foundation patrols known populations by foot and motorbike, and the Armonia Association of Santa Cruz is searching the Beni for more populations. In addition, the Armonia Association is working on an awareness campaign aimed at the cattlemen's association to ensure that these birds are not hunted by trappers on their property (Snyder et al. 2000).

The blue-throated macaw does not represent a monotypic genus. It faces threats that are moderate and imminent, and therefore receives a priority rank of 8.

Southeastern rufous-vented ground cuckoo (Neomorphus geoffroyi dulcis)

The southeastern rufous-vented ground cuckoo is found in southeastern Brazil from Espirito Santo to Rio de Janeiro (del Hoyo et al. 1997). It is found in tropical lowland evergreen forests, where it feeds on large insects, scorpions, centipedes, spiders, small frogs, lizards, and occasionally seeds and fruit (ibid.). The species is not globally threatened, although populations of ground cuckoos in southern Brazil appear to be under threat due to deforestation (ibid.). It is a rare, local, solitary species that requires large blocks of natural forest (ibid.). This extremely shy species is among the first to disappear if its primary forest habitat is disturbed, and in southeastern Brazil where it occurs, most of this type of forest has been destroyed (IUCN 1978-1979). It is poorly known, has a small range, and is highly sensitive to human disturbance (BirdLife International 2001). This subspecies is protected under Brazilian law (IUCN 1978-1979).

This is a subspecies facing threats that are high in magnitude and imminent. It therefore receives a priority rank of 3.

Margaretta's hermit (Phaethornis malaris margarettae; Previously Referred to as Phaethornis margarettae)

Margaretta's hermit was first described as a new species in 1972 by A. Ruschi (Sibley and Monroe 1990). It is currently treated as a subspecies of the great-billed hermit (Phaethornis malaris) (Sick 1993), which is not considered globally threatened. It is found in the understory of inundated lowland forest, secondary growth, bamboo thickets, and shrubbery. Margaretta's hermit is found in coastal East Brazil and is limited to forest remnants; consequently, it could be threatened by further habitat destruction (del Hoyo et al. 1999). The Margaretta's hermit is listed in Appendix II of CITES.

Margaretta's hermit is a subspecies facing threats that are high and imminent. Therefore, it receives a priority rank of 3.

Black-breasted puffleg (Eriocnemis nigrivestis)

The black-breasted puffleg is possibly now confined to the northern ridge crests of Volcan Pichincha, in Pichincha Province, northwest Ecuador (BirdLife International 2000). It may also occur on Volcan Atacazo, although there have only been three specimens found in 1898, with a possible sighting in 1983 in this location (Collar et al. 1992). It occurs in dwarf, humid elfin forest and paramo, at 3,100-4,500 m, from November through January and in humid temperate forest at about 2,400 m at other times of the year (Philips 1989).

There are a large number of museum specimens (over 100) for this species, suggesting it was more common in the past (ibid.). The only confirmed record between 1950 and 1993 was three individuals in 1980 (BirdLife International 2000). Recent fieldwork targeting the species has produced more records, but it has clearly declined and is now rare within a very limited range (Philips 1989). The population estimate for this species is 50-249 birds, with a decreasing population trend (BirdLife International 2000). This species is classified as Critically Endangered in the 2002 IUCN Red List and is listed in Appendix II of CITES. It qualifies as critical because it has an extremely small range and the population is restricted to one location where habitat is being rapidly converted and there is ongoing volcanic activity (BirdLife International 2000). The main threat to the species is the taking of trees in the elfin forest for charcoal, although media coverage of the species has encouraged authorities to control access and forbid charcoal production (Philips 1989). In addition, until recently, potato cultivation and livestock grazing on ridge crests were causing suitable habitat in these areas to disappear rapidly (ibid.). Some of these ridges are almost completely devoid of natural vegetation, and even if black-breasted pufflegs still occur in these areas, they are most likely not numerous (BirdLife International 2000).

The black-breasted puffleg does not represent a monotypic genus. The threat to the species is high and imminent. Therefore, it receives a priority rank of 2.

Chilean woodstar (Eulidia yarrellii)

The Chilean woodstar is restricted to a very small area on the Pacific coast from Tacna, Peru, to extreme northern Antofagasta, Chile (Collar et al. 1992). It is only known to regularly breed in the Lluta and Azapa valleys, Arica Department, in extreme northern Chile (BirdLife International 2000). It inhabits desert river valleys and gardens, mainly from sea level to about 750 m and was found once at 2,600 m (Collar et al., 1992). It is usually a solitary feeder and has been reported feeding in gardens on Lantana and Hibiscus flowers (Collar et al. 1992), but it is comparatively rare in such habitats (Howell and Webb in prep., as cited in BirdLife International 2000).

The Chilean woodstar was reported to be common at the beginning of the 20th Century (Collar et al. 1992). More recently, surveys have found this species to be scarce to locally common (Howell and Webb in prep., as cited in BirdLife International 2000). It is unclear whether this represents a serious decline or previous observers did not come across flowering trees favored by this species (BirdLife International 2000). The population estimate for this species is 2,500-10,000 birds with a decreasing population trend (BirdLife International 2000). This species is classified as Endangered in the 2002 IUCN Red List. It has a very small range, with all populations confined to remnant habitat patches in the two desert valleys where it occurs, which are heavily cultivated (IUCN 2002). The indigenous plants favored by the Chilean woodstar may be severely threatened by this cultivation (Collar et al. 1992). The extent, area, and quality of suitable habitat are likely to be declining (ibid.). The Chilean woodstar is listed in Appendix II of CITES. All exports of hummingbirds from Peru and Chile are controlled (BirdLife International 2000).

The Chilean woodstar represents a monotypic genus. It faces threats that are high in magnitude and non-imminent. It therefore receives a rank of 4.

Esmeraldas woodstar (Acestrura berlepschi)

The Esmeraldas woodstar is restricted to a small area on the Pacific Slope of the Andes of western Equador (Esmeraldas, Manabi, and Guayas), where it is very rare and localized (BirdLife International 2000). It is found in lowland, moist forest (del Hoyo et al. 1999). It has also been recorded in the canopy of semi-humid secondary growth at 50'150 m in December-March, when it apparently breeds (Becker et al. 2000). However, it has not been recorded in this habitat at other times of year, and there is no evidence concerning its long-term ability to survive in this type of forest (BirdLife International 2000).

The Esmeraldas woodstar inhabits one of the most threatened forest habitats within the Neotropics (del Hoyo et al. 1999). All forest types within its range have greatly diminished due to logging and clearing for agriculture (Dodson and Gentry 1991, as cited in BirdLife International 2000). This species is classified as Endangered in the 2002 IUCN Red List because it has a very small and severely fragmented range, which is experiencing rapid declines, presumably causing declines in the bird's population (IUCN 2002). The species is also listed in Appendix II of CITES. The population estimate for this species is 1,000-2,499 birds with a decreasing population trend (BirdLife International 2000). There is a serious current threat from persistent grazing by goats and cattle, which damage the understory and prevent regeneration (Dodson and Gentry 1991, as cited in BirdLife International 2000). Dodson and Gentry (1991) indicate that rapid habitat loss continues, at least in unprotected areas, and extant forests will soon be removed. In Manabi Province, the Esmeraldas woodstar occurs in Machalilla National Park (Collar et al. 1992), but even here, it receives inadequate protection (BirdLife International 2000).

The Esmeraldas woodstar does not represent a monotypic genus; however, it faces threats that are high in magnitude and imminent. Therefore, it receives a priority rank of 2.

Helmeted woodpecker (Dryocopus galeatus)

The helmeted woodpecker is endemic to the southern Atlantic forest region of southeastern Brazil, eastern Paraguay, and northeastern Argentina (BirdLife International 2001). It is found in tall lowland and montane primary forest, in forest that has been selectively logged, and usually near large tracts of intact forest (ibid.). This woodpecker feeds on beetle larvae living beneath bark and forages primarily in the middle story of the forest interior (del Hoyo et al. 2002).

Recent field work on the helmeted woodpecker has revealed that the species is less rare than once thought (BirdLife International 2000). It is listed as Vulnerable in the IUCN 2002 Red List. The current population is estimated at no more than 10,000 individuals and decreasing (BirdLife International 2000). The greatest threat to this species is widespread deforestation. Numerous sightings since the mid-1980s has included a pair in the Brazilian State of Santa Catarina in 1998, where the species had not been seen since 1946 (del Hoyo et al. 2002). The helmeted woodpecker is protected by Brazilian law and populations occur in numerous protected areas throughout its range (BirdLife International 2000). Further studies are needed to clarify its distribution and status (del Hoyo et al. 2002).

The helmeted woodpecker does not represent a monotypic genus. The magnitude of threat to the species is moderate and imminent. It therefore receives a priority rank of 8.

Okinawa woodpecker (Sapheopipo noguchii)

The Okinawa woodpecker is endemic to Okinawa Island, Japan, in the Nansei Shoto (Ryukyu) Islands in southern Japan. It is confined to Kunigami-gun, with its main breeding areas along the mountain ridges between Mt. Nishime-take and Mt. Iyu-take (BirdLife International 2000). This species is found in mature, subtropical moist evergreen broadleaf forests, much of which is now confined to hilltops (Brazil 1991). It is found in forests that are at least 30 years old (Ikehara 1988) in trees more than 20 cm in diameter (Research Center, Wild Bird Society of Japan 1993, as cited in BirdLife International 2001). The Okinawa woodpecker heavily uses rotting stubs as food sources, which suggests a dependence on old-growth forests with large, often moribund trees, accumulated fallen trees and debris, and undergrowth (Short 1993, as cited in BirdLife International 2001). This woodpecker mainly nests in the tree Castanopsis cuspidata (Research Center, Wild Bird Society of Japan 1993, as cited in BirdLife International 2001). It feeds on large arthropods, notably beetle larvae, spiders, moths, and centipedes, plus fruit, berries, seeds, acorns, and other nuts (Winkler et al. 1995).

The Okinawa woodpecker is considered the world's rarest extant picid and is categorized as Critically Endangered in the 2002 IUCN Red List. It was considered close to extinction in the 1930s, and in the early 1990s, the breeding population was estimated to be about 75 birds, with the total population between 146 and 584 individuals. It has a single tiny, declining population, which is threatened by continued loss of mature forest to logging, dam construction, agriculture, and golf course developments (BirdLife International 2000). Some conservation efforts are underway. Currently, it is legally protected in Japan. The Yambaru, a forest area in the Okinawa Prefecture, was designated as a national park in 1996, and conservation organizations have purchased sites where the woodpecker occurs to establish private wildlife preserves (del Hoyo et al. 2002).

The Okinawa woodpecker represents a monotypic genus. This species faces threats that are moderate in magnitude and imminent. It therefore receives a priority rank of 7.

Yellow-browed toucanet (Aulacorhynchus huallagae)

The yellow-browed toucanet is known from only two localities in north-central Peru, La Libertad, where it is uncommon, and Rio Abiseo National Park, San Martin, where it is apparently very rare (BirdLife International 2000). It has a narrow elevational distribution, inhabiting the canopy of montane wet cloud forests with mosses and epiphytes between 2,125 and 2,510 m (del Hoyo et al. 2002, Collar et al. 1992). This distribution may be related to the occurrence of the larger grey-breasted mountain toucan (Andigena hypoglauca) above 2,300 m and the occurrence of the emerald toucanet (Aulacorhynchus prasinus) below 2,100 m (Schulenberg and Parker, as cited in Collar et al. 1992). However, its restricted range remains unexplained (ibid.). The yellow-browed toucanet does not appear to occupy all apparently suitable forest available within its overall range (Schulenberg and Parker 1997). Deforestation has been widespread in this region, but largely below this species' altitudinal range (BirdLife International 2000). However, coca growers have taken over forests within its altitudinal range, probably resulting in some reductions in this species range and population (ibid.). It is listed as Endangered by the IUCN because of its very small range (IUCN 2002). Current population size is unknown (BirdLife International 2000).

The yellow-browed toucanet does not represent a monotypic genus. The magnitude of threat to the species is moderate and non-imminent. Therefore, it receives a priority rank of 11.

Royal cinclodes (Cinclodes aricomae)

The royal cinclodes occurs in the Andes of southeastern Peru (Cuzco, Apurimac, and Puno) and adjacent Bolivia (La Paz) (BirdLife International 2000). It is found in tiny humid patches of Polylepis woodland and montane scrub, mainly at 3,500-4,800 m (Parker et al. 1996). This species is classified as Critically Endangered in the 2002 IUCN Red List because it has an extremely small population that is restricted to a severely fragmented and rapidly declining habitat (IUCN 2002). In addition, no sub-population is thought to exceed 50 mature individuals (ibid.). The population estimate for this species is 50-249 birds, with a decreasing population trend (BirdLife International 2000). The main threat is the inability of Polylepis to regenerate due to the uncontrolled use of fire and heavy grazing (Fjeldsa and Kessler 1996, as cited in BirdLife International 2000). Cutting for timber, firewood, and charcoal, although locally destructive, could be sustainable if regeneration was allowed to occur (ibid.). A local program aimed at educating families on Polylepis woodland and its birds seems to be working.

The royal cinclodes does not represent a monotypic genus. The magnitude of threat to the species is high and the immediacy is imminent. We therefore have assigned a priority rank of 2 to this species.

White-browed tit-spinetail (Leptasthenura xenothorax)

The white-browed tit-spinetail is restricted to a severely fragmented range in south-central Peru in the Runtacocha highland (Apurimac), the Nevado Sacsarayoc Massif, and the Cordillera Vilcanota (Cuzco) (BirdLife International 2000). These birds occur in small, widely scattered patches of humid Polylepis woodlands at 3,700-4,550 m (ibid.). The white-browed tit-spinetail is categorized as Endangered in the 2002 IUCN Red List because of its extremely small and fragmented range and population, which continue to decline due to habitat loss and a lack of habitat regeneration (IUCN 2002). The population is estimated at 250-999 individuals and declining (BirdLife International 2000). Regeneration of Polylepis woodlands is prevented by uncontrolled fires, heavy grazing, and the inadequacy of afforestation projects, which are the greatest threats to the white-browed tit-spinetail (Fjeldsa and Kessler 1996, as cited in BirdLife International 2000). Although cutting for timber, firewood, and charcoal is locally destructive, it could be sustained if regeneration were allowed to occur. There have been attempts to draw local attention to the plight of Polylepis woodlands in Cuzco, which may lead to better environmental controls (ibid.).

The white-browed tit-spinetail does not represent a monotypic genus. The magnitude of threat to this species is high and immediacy of threat is imminent. It has therefore received a priority rank of 2.

Black-hooded antwren (Formicivora erythronotos, Previously Referred to as Myrmotherula erythronotos)

The black-hooded antwren is endemic to southeast Brazil and survives in a narrow coastal strip around the Baía Ilha Grande in south Rio de Janeiro, Brazil (BirdLife International 2000; BirdLife International 2001). It has been found to occur mostly in the lush understory of modified restinga, early successional habitats such as secondary growth, and the understory of old secondary growth (BirdLife International 2000). This species was originally known from about twenty 19th Century skins, and thought to be extinct until it was rediscovered in 1987 (BirdLife International 2000). It has been classified as Endangered by IUCN (2002). Although the species is found at high densities at three sites, the overall range is very small and highly fragmented, and the species is likely to be declining rapidly in response to habitat loss (BirdLife International 2000). The population estimate for this species is 1,000-2,499 birds with a decreasing population trend (BirdLife International 2000). This species is threatened by development of the narrow coastal plain for tourism and beachside housing and widespread clearance of suitable habitat for pasture and plantations of Euterpe sp. palms (ibid.).

The black-hooded antwren does not represent a monotypic genus. It faces threats that are high in magnitude and imminent, and therefore it receives a priority rank of 2.

Fringe-backed fire-eye (Pyriglena atra)

The fringe-backed fire-eye is known only from a very restricted area in the vicinity of Salvador, coastal Bahia, and in south Sergipe, Brazil (Collar et al. 1992). It is found in the tangled undergrowth of lowland forests and appears to favor secondary growth and other semi-open habitats where horizontal perches can be found near the ground. Recent population estimates indicate that between 250 and 999 individuals remain in the wild, and the population is declining (BirdLife International 2000). The species is categorized as Critically Endangered in the 2002 IUCN Red List because of its extremely small range and declining habitat, and because it is known from a very few, highly fragmented localities (IUCN 2002). The fringe-backed fire-eye is protected under Brazilian law. The greatest threat to this species is habitat loss (BirdLife International 2000).

This species does not represent a monotypic genus. It faces threats that are high in magnitude and imminent. It therefore receives a priority rank of 2.

Brown-banded antpitta (Grallaria milleri)

The brown-banded antpitta is endemic to the Volcan Ruiz-Tolima Massif of the central Andes, Colombia (BirdLife International 2000). In Ucumari, this species has been recorded in three types of habitat with no significant difference in population: Early secondary growth vegetation with a high density of herbs and shrubs; the understory of 30-year-old alder (Alnus) plantations; and the understory of 30-year-old secondary forest (Kattan and Beltran 1997). Between 1911 and 1942, ten specimens were collected at elevations of 2,745-3,140 m in Caldas and Quindio (BirdLife International 2000; Kattan and Beltran 1997). It was not seen again until May 1994 in Ucumari Regional Park in Risaralda (Kattan and Beltran 1997). Eleven more birds were caught and banded during surveys conducted between 1994 and 1997 in a narrow elevational band of 2,400-2,600 m, and it was estimated that 106 individuals were present in a 0.63-km² area (ibid., Kattan and Beltran 1999). During 1994-1997, additional observations of the bird were made on the southeast slope of Volcan Tolima in the Rio Toche Valley, which represents a range extension (Lopez-Lanus et al. 2000).

The greatest threat to the brown-banded antpitta is habitat loss. In the Rio Toche Valley, forest has been converted to agriculture since the 1950s, and natural vegetation cover has been reduced to about 15 percent between 1,900 and 3,200 m (BirdLife International 2000). This species is classified as Endangered in the 2002 IUCN Red List because it is known from very few locations in a very small range (IUCN 2002). In addition, habitat loss and degradation are continuing within this range (ibid.). The population estimate for this species is 250-999 birds, with a decreasing population trend (BirdLife International 2000). Significant numbers of this species are well protected in Ucumari Regional Park, Risaralda (Kattan and Beltran 1997). The Rio Toche watershed lacks any form of protection, and the limited remaining forest there continues to diminish and become increasingly fragmented (Lopez-Lanus et al. 2000).

The brown-banded antpitta does not represent a monotypic genus. The threat to the species is high in magnitude and imminent. It therefore receives a priority rank of 2.

Brasilia tapaculo (Scytalopus novacapitalis)

The Brasilia tapaculo occurs in the undergrowth of swampy gallery forest and dense streamside vegetation with impenetrable secondary growths of fern Pteridium aquilinum from Goias, the Federal District, and Minas Gerais, Brazil (Collar et al. 1992; BirdLife International 2000, Negret and Cavalcanti 1985, as cited in Collar et al. 1992). Although the species was once considered rare (Sick and Texeira 1979, as cited in Collar et al. 1992), it is found in reasonable numbers in certain areas of Brasilia (D. M. Teixeira, in litt. 1987, as cited in Collar et al. 1992). The population is estimated at more than 10,000 birds, with a decreasing population trend (BirdLife International 2000). Currently, the IUCN Red List categorizes Scytalopus novacapitalis as Lower Risk/near threatened (IUCN 2002). This species has a very limited range and is presumably losing habitat around Brasilia. However, its distribution now seems larger than initially thought, and the swampy gallery forests where it is found have escaped clearance (D. M. Teixeira in litt. 1987, as cited in Collar et al. 1992). The Brasilia tapaculo is currently protected by Brazilian law (Bernardes et al. 1990, as cited in Collar et al. 1992), and it is known from six protected areas (BirdLife International 2000). Annual burning of adjacent grasslands limits the extent and availability of suitable habitat, as does wetland drainage and the sequestration of water for irrigation (BirdLife International 2000).

The Brasilia tapaculo does not represent a monotypic genus. The magnitude of threat to the species is moderate and imminent. Therefore, it receives a priority rank of 8.

Kaempfer's tody-tyrant (Hemitriccus kaempferi; Previously Referred to as Idioptilon kaempferi)

The Kaempfer's tody-tyrant is known from three localities in Santa Catarina, Brazil: one record each in 1929, 1950, and 1998 (BirdLife International 2000). It is found in humid lowland Atlantic forest. At one of these localities, at Salto do Pirai, these birds have typically been seen in forest edge, well-shaded secondary growth, and sections of low, generally epiphyte-laden open woodland in the vicinity of watercourses (Mazar Barnett et al. [in press], as cited by BirdLife International 2000). It feeds predominantly in the midstory of medium-sized trees, and pairs appear to remain within small well-defined areas (ibid.). The Kaempfer's tody-tyrant is categorized as Endangered in the 2002 IUCN Red List because of its extremely small range, with only two recent records in a single area (IUCN 2002). The population estimate is 1,000-2,499 individuals and declining (BirdLife International 2000). There has been extensive deforestation in the Atlantic forest, and much of the lowland forest continues to be cleared in the vicinity of the two most recent sightings (BirdLife International 2000). The Kaempfer's tody-tyrant is protected by Brazilian law and occurs in one protected area (ibid.).

This species does not represent a monotypic genus. Threats to the species are high in magnitude and imminent. We therefore have assigned a priority rank of 2 to this species.

Ash-breasted tit-tyrant (Anairetes alpinus)

The ash-breasted tit-tyrant is confined to semi-humid Polylepis—Gynoxys woodlands in the high Andes in Peru and Bolivia (BirdLife International 2000). There are two widely disjunct populations: the subspecies A. a. alpinus occurs in the Cordilleras Central and Occidental, Peru, and A. a. bolivianus occurs in the Cordillera Oriental, Peru, and in the Cordillera Real, Bolivia (BirdLife International 2000; Collar et al. 1992; Fjeldsa and Kessler 1996). It is relatively common in the Runtacocha highland, Apurimac, and the Cordillera Vilcabamba, Cuzco (Fjeldsa and Kessler 1996). The ash-breasted tit-tyrant is categorized as Endangered in the 2002 IUCN Red List because of its very small, fragmented, and declining occupied range and population (IUCN 2002). The population is estimated at 250-999 individuals and declining (BirdLife International 2000). Heavy grazing is the main threat, especially in Ancash, which, combined with the uncontrolled use of fire, prevents Polylepis regeneration (Fjeldsa and Kessler 1996 and G. Servat (in litt.), as cited in BirdLife International 2000). In addition, a change from camelid to sheep and cattle farming, erosion, and soil degradation caused by agricultural intensification and afforestation are contributory factors to the decline of the species (Fjeldsa and Kessler 1996). There have been some local successes with public awareness campaigns in Cuzco, Peru (ibid.).

The ash-breasted tit-tyrant does not represent a monotypic genus. The threat to the species is high in magnitude and imminent. Therefore, we have assigned it a priority rank of 2.

Peruvian plantcutter (Phytotoma raimondii)

The Peruvian plantcutter inhabits the coastal region of northern Peru from Tumbus to Lima (BirdLife International 2000). Recent records are from only four areas, and it is absent from much apparently suitable habitat (ibid.). It occurs in desert scrub, riparian thicket, and low woodland, usually dominated by Prosopis trees with some Acacia up to 550 m (ibid.). The Peruvian plantcutter is categorized as Endangered in the 2002 IUCN Red List because of its extremely small and fragmented range, and because the remaining habitat is subject to rapid and continuing destruction and degradation (IUCN 2002). The population is estimated at 250-999 individuals and declining (BirdLife International 2000). Threats include the conversion of coastal river valleys to cultivation, removal of the shrub layer by grazing goats, and burning and logging for firewood and charcoal (Engblom in litt., as cited by BirdLife International 2000).

The Peruvian plantcutter does not represent a monotypic genus. Threats to the species are high in magnitude and imminent. Therefore, it receives a priority rank of 2.

St. Lucia forest thrush (Cichlherminia iherminieri sanctaeluciae)

The St. Lucia forest thrush is found on St. Lucia Island in the West Indies (Raffaele et al. 1998). It mostly inhabits the undergrowth of mid- and high-altitude primary and secondary moist forest (Raffaele et al. 1998; Keith 1997, as cited in BirdLife International 2000). On St. Lucia, it is uncommon to rare, but was considered numerous in the late 19th Century (Keith 1997, as cited in BirdLife International 2000). It is currently treated as a subspecies of the forest thrush (Cichlherminia Iherminieri), which is classified as Vulnerable in the 2002 IUCN Red List because of human-induced deforestation and introduced predators (IUCN 2002). Habitat loss has occurred throughout the species' range, and other threats include competition with the bare-eyed robin, brood parasitism by the shiny cowbird, hunting by humans for food, and predation by mongooses and other introduced predators (Raffaele et al. 1998).

This subspecies faces threats that are high and imminent. It therefore receives a priority rank of 3.

Eiao Polynesian warbler (Acrocephalus caffer aquilonis)

The Eiao Polynesian warbler is restricted to dry forest on Eiao Island in the Marquesas Islands. Decker (1973) found that other races of the species occupy a variety of habitats possessing trees or tall bushes, ranging from cultivated areas to dense forests. On Eiao, by 1960, only scraps of woodland remained, and after many years of grazing by introduced sheep and swine, it was described as being a barren desert of rock and orange clay. This warbler was apparently common in 1922, when the Whitney South Sea Expedition collected a number of specimens (Holyoak 1975, as cited by IUCN 1978-1979). Three more individuals were collected in 2 days in 1929, and it was still present in small numbers in 1968 (ibid.). The population in 1987 was estimated at 100-200 individuals (Thibault, personal communication to Philippe Raust, Sociéétéé d'Ornithologie de Polynéésie 2003). Threats include alien invasive mammals and predators and a lack of regeneration of habitat (ibid.).

The Eiao Polynesian warbler is a subspecies facing threats that are high in magnitude and imminent. It therefore receives a priority rank of 3.

Codfish Island fernbird (Bowdleria punctata wilsoni)

The Codfish Island fernbird is found only in low scrub habitat on Codfish Island, off the northwest coast of Stewart Island, New Zealand (IUCN 1979). The vegetation of Codfish Island has been modified by the introduced Australian brush-tailed possum (Trichosurus vulpecula), and fernbird numbers have been reduced by predation by the weka (Gallirallus australis scotti) and the Polynesian rat (Rattus exulans) (Merton 1974, personal communication, as cited in IUCN 1979). In 1966, this fernbird was considered relatively safe (Blackburn 1967, as cited in IUCN 1979), but estimates from 1975 indicated a gradually declining population numbering approximately 100 individuals (Bell 1975, as cited in IUCN 1979). At that time, it was absent from parts of Codfish Island that it had formerly occupied (Blackburn 1967, as cited in IUCN 1979). Several conservation measures have been completed on Codfish Island. The weka was eradicated from Codfish Island between 1980 and 1985 (Taylor 2000), and Polynesian rats were eradicated from Codfish Island in August 1998 (Conservation News 2002). The fernbirds are now rebounding strongly on the island (Hayley Meehan, New Zealand Forest and Birds, personal communication, 2003).

The Codfish Island fernbird is a subspecies that is now facing threats that are low to moderate in magnitude and imminent. It therefore receives a priority rank of 9.

Ghizo white-eye (Zosterops luteirostris)

The Ghizo white-eye is endemic to Ghizo in the Solomon Islands (BirdLife International 2000). Birds are locally common in the remaining tall or old-growth forests located on Ghizo (Buckingham et al. 1995 and Gibbs 1996, as cited in BirdLife International 2000). It is less common in scrub close to large trees and in plantations (BirdLife International 2000), and it is not known whether these two habitats support sustainable breeding populations (Buckingham et al. 1995, as cited in BirdLife International 2000). This species is classified as Endangered in the 2002 IUCN Red List because of its small population that is inferred to be declining because of habitat loss (IUCN 2002). The population estimate for this species is 250-999 birds with a decreasing population trend (BirdLife International 2000). The very tall old-growth forest on Ghizo is still under some threat from clearance for timber for local use, firewood, and gardens, and the areas of other secondary growth, which are sub-optimal habitats for this species, are under considerable threat from clearance for agricultural land (ibid.).

The Ghizo white-eye does not represent a monotypic genus. It faces threats that are moderate and imminent, and therefore receives a priority rank of 8.

Medium tree-finch (Camarhynchus pauper)

The medium tree-finch is endemic to Floreana in the Galapagos Islands, Ecuador (BirdLife International 2000). It is common in the highlands and considered uncommon to rare on the coast (Harris 1992). It is found in montane evergreen and tropical deciduous forest, the Scalesia zone, and humid scrub (Stotz et al. 1996). This poorly known species is considered Vulnerable by the IUCN because it has a very small range (IUCN 2002). The population estimate ranges from 1,000 to 2,499 (BirdLife International 2000). Introduced species may be a threat because Floreana Island has a number of introduced predators and herbivores, including cattle, pigs, cats, dogs, and rats, and also suffers from extensive habitat destruction and degradation (Jackson 1985). However, it is not known how any of these potential threats affects the species (BirdLife International 2000). Population trends for this species are also unknown (IUCN 2002). Predator control is occurring on Floreana, Santa Cruz, and Santiago Islands (H. Vargus and F. Cruz (in litt.) 2000, as cited in BirdLife International 2000). The Galapagos Islands are a national park and were declared a World Heritage Site in 1979 (BirdLife International 2000).

The medium tree-finch does not represent a monotypic genus. The magnitude of threat to the species is moderate and immediacy is non-imminent. We therefore give this species a priority rank of 11.

Cherry-throated tanager (Nemosia rourei)

The cherry-throated tanager is currently known from Fazenda Pindobas IV in Espirito Santo, Brazil, where small numbers have been recorded since 1998 (Bauer et al. 2000). Prior to this time, this species was only known from one type specimen, collected around the mid-19th Century at Muriae, Minas Gerais, and from a flock of eight individuals seen in the region of Jatiboca, Espirito Santo, in 1941 (Collar et al. 1992). The area of Espirito Santo is now devoid of forest (BirdLife International 2000). There have been probable sightings at the Augusto Ruschi (Nova Lombardia) Biological Reserve in 1992 (Scott 1997) and Fazenda Pedra Bonita, Minas Gerais (Bauer et al. 2000). It occurs primarily in the canopy of humid montane forests at elevations of 900-1,100 m (ibid.). The cherry-throated tanager is categorized as Critically Endangered in the 2002 IUCN Red List because of its extremely small range and because the population is only found in a single area (IUCN 2002). The population is estimated at 50-249 individuals and declining (BirdLife International 2000). It is believed that extensive deforestation has had an adverse impact on this tanager (ibid.). This species is protected by Brazilian law and its conceivable range may include protected areas (ibid.). The owners of Fazenda Pindobas IV have expressed interest in protecting the remaining native forest on their property (Venturini, in litt. 2000, as cited in BirdLife International 2000).

The cherry-throated tanager does not represent a monotypic genus. It faces threats that are high in magnitude and imminent, and therefore it receives a priority rank of 2.

Black-backed tanager (Tangara peruviana)

The black-backed tanager is endemic to the coastal Atlantic forest region of southeastern Brazil, with records from Rio de Janeiro, Sao Paolo, Parana, Santa Catarina, Rio Grande do Sul, and Espirito Santo (BirdLife International 1992; Argel-de-Oliveira, in litt. 2000, as cited in BirdLife International 2000). It is largely restricted to coastal sand-plain forest and littoral scrub, also called restinga, and has also been found in secondary forests (BirdLife International 1992). The black-backed tanager is generally not considered rare within suitable habitat (BirdLife International 2000). It has a complex distribution with periodic local fluctuations in numbers owing to seasonal movements, at least in Rio de Janeiro and Sao Paolo (BirdLife International 1992). Clarification of these seasonal movements will provide an improved understanding of its actual conservation status (IUCN 2002). Population estimates range from 2,500 to 10,000 individuals (BirdLife International 2000), and it is considered Vulnerable by the IUCN. Currently populations appear to be small and fragmented. The species is threatened by the rapid and widespread loss of restinga and occasionally appears in the illegal cage-bird trade (BirdLife International 2000).

The black-backed tanager does not represent a monotypic genus. The threat to the species is low to moderate in magnitude, and the threat is non-imminent. Therefore, we give this species a priority rank of 11.

Lord Howe pied currawong (Strepera graculina crissalis)

The Lord Howe Island subspecies of the pied currawong is endemic to the Lord Howe Island group in New South Wales, Australia. The highest densities of nests are located on the slopes of Mt. Gower and in the Erskine Valley, with smaller numbers on the lower land to the north (Knight 1987, as cited in Garnett and Gabriel 2000). This subspecies is highly mobile, and individuals can be found anywhere on the island as well as on offshore islands, such as the Admiralty group (Garnett and Gabriel 2000). Territories of the pied currawongs include a section of stream or gully that is lined by tall timber (ibid.). They feed on dead rats, possibly chase and kill live ones, and have also been recorded taking seabird chicks, poultry, and the chicks of the Lord Howe woodhen (Tricholimnas sylvestris) and white terns (Gygis alba), as well as fruits and seeds (Hutton 1991 and McFarland 1994, as cited Garnett and Gabriel 2000). Local residents sometimes kill currawongs that have attacked poultry, woodhens, or terns (Garnett and Gabriel 2000). However, the effect of this killing on the overall population is unknown (ibid.). The Lord Howe pied currawong is listed as Endangered on the schedules of the New South Wales Threatened Species Conservation Act (Garnett and Gabriel 2000) because the subspecies is limited in range, only occurring on Lord Howe Island (New South Wales National Parks and Wildlife Service 2003). In the Action Plan for Australian Birds (2000), the current population is estimated at approximately 80 mature individuals. The agency responsible for the conservation of this species is the New South Wales National Parks and Wildlife Service.

The Lord Howe pied currawong is a subspecies facing threats that are low in magnitude and non-imminent. Therefore, it receives a priority rank of 12.

Findings on Species for Which Listing Is Warranted

We will promptly prepare listing proposals for five of the species: The giant ibis (Pseudibis gigantean), black stilt (Himantopus novaezelandiae), Gurney's pitta (Pitta gurneyi), Socorro mockingbird (Mimodes graysoni), and caerulean paradise-flycatcher (Eutrichomyias rowleyi).

Giant ibis (Pseudibis gigantea)

The giant ibis has undergone a massive reduction in range and is currently confined to open deciduous forest in extreme southern Laos and a larger area of northern and eastern Cambodia (BirdLife International 2001). It is still fairly widespread but extremely rare, with only a few birds surviving in southern Laos (BirdLife International 2000). Its historical range spanned central and peninsular Thailand, central and northern Cambodia, southern and central Laos, and southern Viet Nam (King et al. 1975, as cited in N.J. Collar et al. 1994). The giant ibis is now considered extinct in Viet Nam and Thailand (BirdLife International 2000). It seems always to have been uncommon and local throughout its range (del Hoyo et al. 1992). The giant ibis is a lowland bird, found in both open and forested wetland habitats (N.J. Collar et al. 1994).

The giant ibis is categorized as Critically Endangered by the IUCN (IUCN 2002). In 1997, its population was estimated at about 250 birds, but this is probably too high and the population is very likely to be fewer than 50 mature individuals (BirdLife International 2000). The loss of wetlands is probably one of the main causes of decline, and the conversion for agriculture of the central valley of Chao Phraya is thought to have been instrumental in its extirpation from Thailand. The large size of the giant ibis probably makes it vulnerable to hunting (del Hoyo et al. 1992). Currently, the giant ibis is depicted in public awareness material in Laos and Cambodia as part of an ongoing campaign to reduce hunting of large waterbirds (BirdLife International 2000).

The giant ibis does not represent a monotypic genus. The magnitude of threat to the species is high, and the immediacy of threat is imminent. We therefore give this species a priority rank of 2.

Black stilt (Himantopus novaezelandiae)

The black stilt was formerly widespread across New Zealand (del Hoyo et al. 1996). Currently, breeding is restricted to the Upper Waitaki Valley, South Island, and small numbers of the species overwinter on North Island (BirdLife International 2000). It is found along riverbanks, lake shores, swamps, and shallow ponds. The black stilt is carnivorous, taking a variety of invertebrates and small fish (del Hoyo et al. 1996). Most individuals breed for the first time at 3 years of age. The species typically lays four eggs per clutch and will usually re-nest if the first clutch is lost early in the season (BirdLife International 2000).

The total population of black stilts crashed from 1,000 birds or more in 1950 to fewer than 100 birds in 1960 (del Hoyo et al. 1996). The current population estimate for the black stilt is 40 individuals and decreasing (BirdLife International 2000). It is considered Critically Endangered by the IUCN because it has declined recently to an effective population size of 18 breeding birds and is considered one of the most threatened shorebirds in the world (IUCN 2000). This species suffers from heavy predation, primarily from introduced animals such as cats, ferrets (Mustelo furo), stoats (M. Erminea), hedgehogs, brown rats (Rattus norvegicus), the native Australian harrier (Circus approximans), and kelp gull (Larus dominicanus) (BirdLife International 2001). For nesting, the black stilt prefers dry banks where both cats and ferrets hunt (Pierce 1986, as cited in Collar et al. 1994). They are solitary nesters, have a long fledgling period, and exhibit ineffective anti-predator behavior, which all contribute to heavy losses from predation (del Hoyo et al. 1996). Nesting areas have also been destroyed by drainage, weed growth, and hydroelectric development (Collar et al. 1994). There is also interbreeding with the black-winged stilt (H. himantopus) as the population size decreases (del Hoyo et al. 1996). The black stilt has been prevented from becoming extinct in the wild by the annual release of substantial numbers of captive-bred birds and through predator control (BirdLife International 2000).

There are a number of conservation efforts under way for the black stilt. Predator control and captive rearing and release began in the early 1980s with mixed success (del Hoyo et al. 1996). Recent advances in release methods appear to have enhanced the initial survival of released birds from 20-45 to 80-100 percent (Chambers and MacAvoy 1999, as cited in BirdLife International 2000). Trapping for predators around all wild nests has been ongoing since 1997 (Maloney in litt. 1999, as cited in BirdLife International 2000). Water levels are being manipulated in managed wetlands where predators are controlled to attract birds to feed and possibly breed (Dowding and Murphy (in press), as cited in BirdLife International 2000).

The black stilt does not represent a monotypic genus, but the magnitude of threat is high, and the immediacy of threat is imminent. We therefore assign this species a priority rank of 2.

Gurney's pitta (Pitta gurneyi)

Historically, Gurney's pitta was restricted to the semi-evergreen rainforest biome of southernmost Myanmar and southern Thailand. Currently it occurs from a single small site, Khao Nor Chuchi, in Krabi Province, Thailand (BirdLife International 2001). This species is, and was, always restricted to extreme lowland semi-evergreen forest, usually below 160 m, with an understory containing Salacca palms, where it nests (BirdLife International 2000). A central element of its territories are gully systems where moist conditions exist year-round and there is usually access to water in small streamlets. Moisture and shade appear to be crucial. Since almost all feeding takes place on the forest floor, the understory vegetation, humidity, composition of the leaf litter, and availability of earthworms appear to be of greatest importance in determining the distribution of Gurney's pitta (Gretton et al. 1993, as cited in BirdLife International 2001). Its diet consists of snails, worms, slugs, and insects of all kinds.

Gurney's pitta was formerly common across much of its range. However, there have been no records of this species in Myanmar since 1914, and there were no field observations in Thailand between 1952 and 1986. Since 1986, intensive surveys have found individuals in at least five localities, although at present it only remains in one: Khao Nor Chuchi. In 1986 there were estimates of 44-45 pairs (BirdLife International 2000). Currently, this species has one of the lowest known populations of any bird species in the world, with only 11 pairs and two spare males counted in a survey at Khao Nor Chuchi (Y. Meekaeo (in litt.) 2000; P. D. Round in litt. 2000, as cited in BirdLife International 2001). It is considered Critically Endangered by the IUCN (2000). It was originally listed in Appendix III in Thailand in July 1987, but was included in Appendix I of CITES in January 1990 (UNEP 2001).

The primary reason for the decline of this species has been the almost total clearance of lowland forest in southern Myanmar and peninsular Thailand through clear-felling for timber, unofficial logging and conversion to croplands, fruit orchards, coffee, rubber, and oil-palm plantations (BirdLife International 2000). Hunting is also a concern for this species. As recently as April 2000, hunting and trapping (including terrestrial birds) were still being regularly recorded in Khao Pra-Bang Khram Wildlife Sanctuary and the adjacent National Reserve Forest. This problem is exacerbated by the fact that there are few routine patrols so intruders run little risk of being intercepted (Bird Conservation Society of Thailand Bulletin, as cited in BirdLife International 2001). Snare-line trapping for the cage-bird trade is also a serious threat (BirdLife International 2000). These birds were relatively easy to obtain in Bankok from the late 1950s to the early 1970s and were entering trade within Thailand as well as to the United Kingdom and United States in the period 1966-1968 and in the early 1980s to June 1985 (Collar et al. 1986, as cited in BirdLife International 2001). In 1986, one major animal trading company in Bankok maintained that it still received 5-6 Gurney's pittas per year, and an unidentified contact claimed that as many as 50 birds per year were still entering trade in Thailand (Round and Treesucon 1986, as cited in BirdLife International 2001). Two male Gurney's pittas were seen in captivity in the Khao Khieo Open Zoo, Chonburi, in March 1996 (F. R. Lambert [in litt.] 1998, as cited in BirdLife International 2001), and three Gurney's pittas were confiscated from local villagers at Khao Nor Chuchi and returned the forest in the period 1990-1997 (Round and Treesucon 1986, as cited in BirdLife International 2001).

A number of conservation efforts have been initiated for the species. Khao Nor Chuchi was designated a Non-Hunting Area in 1987, and upgraded to a Wildlife Sanctuary in 1993. The Khao Nor Chuchi Lowland Forest Project was established in 1990, which entailed education programs and ecotourism, as well as engaging the local community in participatory management to help reduce pressure on the remaining forest. This has met with limited success. In addition, a series of breeding season censuses were conducted from 1987 to 1989, to locate and quantify populations in peninsular Thailand (BirdLife International 2000).

Gurney's pitta does not represent a monotypic genus. However, the magnitude of threat to the species is high and the immediacy of threat is imminent. We therefore assign this species a priority rank of 2.

Socorro mockingbird (Mimodes graysoni)

The Socorro mockingbird is endemic to Socorro in the Revillagigedo Islands in Mexico, where it was the most abundant and widespread landbird in 1925 (Jehl and Parkes 1982, 1983). It was still considered abundant in 1958, but had declined dramatically and was feared to be on the brink of extinction by 1978 (BirdLife International 2000). Surveys in 1988-1990 resulted in estimates of 50-200 pairs (Castellanos and Rodriguez-Estella 1993). In 1993-1994, there were approximately 350 individuals (Martinez-Gomez and Curry 1996). This species is found at elevations above 600 m principally in moist dwarf forests and ravines with a mixture of shrubs and trees (ibid.). The Socorro mockingbird is categorized as Critically Endangered in the 2002 IUCN Red List because of its extremely small range and because the high number of sub-adults found in the 1993-1994 survey suggests that the number of mature individuals is also very small (IUCN 2002). The population is estimated at 50-249 individuals and declining (BirdLife International 2000). There is no suitable nesting or foraging habitat remaining in the south of the island because of intensive grazing by sheep (Castellanos and Rodriguez-Estella 1993). There is also a possibility, but no substantial evidence of predation by feral cats (Martinez-Gomez and Curry 1996). The Revillagigedo Islands were declared a Bioshpere Reserve in 1994.

The Socorro mockingbird represents a monotypic genus experiencing a high magnitude of threat that is imminent. We therefore give this species a priority rank of 1.

Caerulean paradise-flycatcher (Eutrichomyias rowleyi)

The caerulean paradise-flycatcher is only known from the island of Sangihe, north of Sulawesi, Indonesia (BirdLife International 2001). This species is a sedentary insectivore that occupies primary broadleaf-trophophyllous forest on steep-sided valley slopes and valley bottoms with streams (BirdLife International 2000). Until 1998, the caerulean paradise-flycatcher was thought to be extinct. Currently, the total population is thought to lie between 50 and 100 birds (BirdLife International 2001). This flycatcher is considered Critically Endangered by the IUCN because of its tiny range and population, both of which have undergone a major and continuing decline due to habitat loss due to deforestation and conversion to agriculture (BirdLife International 2000; IUCN 2002). Since 1995, the Action Sampiri project has been conducting field work and conservation awareness programs, and developing ideas for future land use through agreements between interested parties in Sangihe and Talaud. Plans to reclassify “protection forest” on Gunung Sahengbalira on Sangihe Island as a wildlife reserve, with core areas as a strict reserve, are under development (BirdLife International 2000).

The caerulean paradise-flycatcher represents a monotypic genus that faces a high magnitude of threat that is imminent. We therefore assign this species a priority rank of 1.

Progress in Revising the Lists

As described in section 4(b)(3)(B)(iii) of the Act, we must also show that we are making expeditious progress to add qualified taxa to the Lists of Endangered and Threatened Wildlife and Plants and to remove from the lists taxa for which the protections of the Act are no longer necessary. We are making expeditious progress in listing and delisting taxa as represented by our publications in the Federal Register of the following high-priority actions: proposed rule and re-opening of comment periods for three African antelopes (scimitar-horned oryx [Oryx dammah], addax [Addax nasomaculatus], and dama gazelle [Gazella dama)] (68 FR 43706, July 24, 2003; 68 FR 66395, November 26, 2003); 12-month petition finding and proposed rule for Tibetan antelope (Pantholops hodgsonii) (68 FR 57646, October 6, 2003); proposed rule to delist the scarlet-chested parakeet (Neophema splendida) and turquoise parakeet (Neophema pulchella) (68 FR 52169, September 2, 2003); final rules for the population of dugong (Dugong dugon) in the Republic of Palau (68 FR 70185, December 17, 2003) and beluga sturgeon (Huso huso) (69 FR 21425, April 21, 2004); 90-day petition finding to delist the Mexican bobcat (Lynx rufus escuinapae) (68 FR 39590, July 2, 2003); and a 90-day petition finding and re-opening of comment period to list seven foreign butterfly taxa (Teinopalpus imperialis, Protographium marcellinus [previously referred to as Eurytides marcellinus], Mimoides lysithous harrisianus [previously referred to as Eurytides lysithous harrisianus], Parides ascanius, Parides hahneli, Troides [= Ornithoptera] meridionalis, and Pterourus esperanza [previously referred to as Papilio esperanza]) (not yet published). As stated above, we will promptly prepare listing proposals for five of the species: the giant ibis (Pseudibis gigantean), black stilt (Himantopus novaezelandiae), Gurney's pitta (Pitta gurneyi), Socorro mockingbird (Mimodes graysoni), and caerulean paradise-flycatcher (Eutrichomyias rowleyi).

Request for Information

We request you submit any further information on the taxa named in this notice as soon as possible or whenever it becomes available. We especially seek information: (1) Indicating that we should remove a taxon from warranted or warranted-but-precluded status; (2) indicating that we should add a taxon to a list of candidate taxa; (3) documenting threats to any of the included taxa; (4) describing the immediacy or magnitude of threats facing these taxa; (5) pointing out taxonomic or nomenclatural changes for any of the taxa; (6) suggesting appropriate common names; or (7) noting any mistakes, such as errors in the indicated historical ranges.

References Cited

Ali, S., and S. D. Ripley. 1968-1998. Handbook of the Birds of India and Pakistan. Oxford University Press, Bombay.

Andrade, G. I., and A. Repizzo. 1994. Guanenta-Alto Fonce Fauna and Flora Sanctuary: A new protected area in the Colombia East Andes. Cotinga 2:42-44.

Baker, A. R. 1980. Breeding distribution and population size of the Dark-rumped Petrel Pterodroma phaeopygia at Santa Cruz Island, Galapagos. Charles Darwin Research Station Annual Report. 1980:72-74.

Bauer, C., J. F. Pacheco, A. C. Venturini, and B. M. Whitney. 2000. Rediscovery of the Cherry-throated Tanager Nemosia rourei in southern Espirito Santo, Brazil. Bird Conservation International 10:97-108.

Becker, D., A. Agreda, A. Richter, and O. Rodriguez. 2000. Interesting bird records from the Colonche Hills, western Ecuador. Cotinga 13:55-58.

Benstead, P. 1994. Brazilian Merganser in Argentina: going, going * * * Cotinga 1:8

Bernardes, A. T., A. B. Machado, and A. B. Raylands. 1990. Fauna brasileiro amenacada de extincao. Belo Horizonte, Brasil: Fundaςao Biodiversitas.

Bhushan, B. 1995. Jerdon's Courser—status and conservation perspectives. Pp. 29-30 in L. Vijayan (ed.). Avian conservation in India. SACON: Coimbatore.

BirdLife International. 2003. BirdLife's online World Bird Database: The site for bird conservation. Version 2.0. BirdLife International, Cambridge, UK. Online at: http://www.BirdLife.net.

BirdLife International. 2001. Threatened Birds of Asia: The BirdLife International Red Data Book. BirdLife International, Cambridge, UK.

BirdLife International. 2000. Threatened birds of the world. Lynx Editions and BirdLife International, Barcelona, Spain, and Cambridge, UK. 852 pp.

BirdLife International. 1999. Management statement: Italian Grey Partridge (Perdix perdix italica) final draft. European Commission.

Birds of French Overseas Territories. 2003. Online at: http://birds-of-oversea.chez.tiscali.fr/page40.html.

Brazil, M. A. 1991. The Birds of Japan. A. & C. Black/Christopher Helm, London.

Brooks, D. M., and S. D. Strahl (compilers). 2000. Currassows, Guans and Chachalacas. Status Survey and Conservation Action Plan for Cracids 2000-2004. IUCN/SSC Cracid Specialist Group. IUCN, Gland, Switzerland and Cambridge, UK. vii + 182 pp.

Brooks, T. M., R. Barnes, L. Bartrina, S. H. M. Butchart, R. P. Clay, E. Z. Esquivel, N. I. Etcheverry, J. C. Lowen, and J. Vincent. 1993. Bird Surveys and Conservation in the Paraguayan Atlantic Forest: Project CANOPY final report. (Study Report 57) BirdLife International, Cambridge, U K.

Buckingham, D. L., G. C. L. Dutson, and J. L. Newman. 1995. Birds of Manus, Kolombangara and Makira (San Cristobal) with notes on mammals and records from other Solomon Islands. Report of the Cambridge Solomons Rainforest Project 1990.

Castellanos, A., and R. Rodriguez-Estrella. 1993. Current status of the Socorro mockingbird. Wilson Bulletin 105:167-171.

Chambers, G. K., and E. S. MacAvoy. 1999. Molecular genetic analysis of hybridisation. Science for Conservation 105. Department of Conservation, Wellington, NZ.

Chapman, F. M. 1917. The distribution of BirdLife in Colombia. Bulletin of the American Museum of Natural History 36.

Collar, N. J., P. D. Round, and D. R. Wells. 1986. The past and future of Gurney's pitta. Forktail 1:29-51.

Collar, N. J., P. Andrew, L. P. Gonzaga, R. F. Grimmett, T. H. Johnson, A. J. Stattersfield, and S. N. Stuart. 1988. Birds to Watch: The ICBP World Checklist of Threatened Birds. International Council for Bird Preservation Technical Publication No. 8. Smithsonian Institution Press, Washington, DC.

Collar, N.J., L. P. Gonzaga, N. Krabbe, A. Madrono Nieto, L. G. Naranjo, T. A. Parker, and D. C. Wege. 1992. Threatened Birds of the Americas: The ICBP/IUCN Red Data Book. International Council for Bird Preservation, Cambridge, UK. 1,150 pp.

Collar, N. J., M. J. Crosby, and A. J. Stattersfield. 1994. Birds to Watch 2: The World List of Threatened Birds. BirdLife Conservation Series 4. BirdLife International, Cambridge, UK. 405 pp.

Conservation News. 2002. Rat eradication from Little Barrier Island overdue. Online at: http://www.forest-bird.org.nz/publications/consnews/2002aug.pdf.

Cordier, C. 1971. The quest for the Horned Curassow. Animal Kingdom 74(2):9-11.

Crockett, D. E. 1994. Rediscovery of Chatham Island Taiko Pterodoms magentae. Notornis (Supplement) 41:49-60.

Cruz, J. B., and F. Cruz. 1987. Conservation of the Dark-rumped Petrel Pterodroma phaeopygia of the Galapagos Islands, Ecuador. Biological Conservation 42:303-311.

Cruz, J. B., and F. Cruz. 1996. Conservation of the Dark-rumped Petrel Pterodroma phaeopygia of the Galapagos Islands, 1982-1991. Bird Conservation International 6:23-32.

Cuervo, A., and P. Salaman. 1999. Natural history of the Blue-billed Curassow (Crax albert). Biol. CSG 8:3-10.

Decker, B. G. 1973. Unique dry-island biota under official protection in northwestern Marquesas Islands (Iles Marquises). Biological Conservation 5(1):66-67.

del Hoyo, J., A. Elliott, and J. Sargatal (Eds.). 1992. Handbook of the birds of the world. Vol. 1. Lynx Edicions, Barcelona.

del Hoyo, J., A. Elliott, and J. Sargatal (Eds.). 1994. Handbook of the birds of the world. Vol. 2. Lynx Edicions, Barcelona.

del Hoyo, J., A. Elliott, and J. Sargatal (Eds.). 1996. Handbook of the birds of the world. Vol. 3. Lynx Edicions, Barcelona.

del Hoyo, J., A. Elliott, and J. Sargatal (Eds.). 1997. Handbook of the birds of the world. Vol. 4. Lynx Edicions, Barcelona.

del Hoyo, J., A. Elliott, and J. Sargatal (Eds.). 1999. Handbook of the birds of the world. Vol. 5. Lynx Edicions, Barcelona.

del Hoyo, J., A. Elliott, and J. Sargatal (Eds.). 2001. Handbook of the birds of the world. Vol. 6. Lynx Edicions, Barcelona.

del Hoyo, J., A. Elliott, and J. Sargatal (Eds.). 2002. Handbook of the birds of the world. Vol. 7. Lynx Edicions, Barcelona.

Department of Conservation. 1997. Review of Takahe management on mainland New Zealand. Unpublished working document.

Dodson, C. H., and A. H. Gentry. 1991. Biological extinction in western Ecuador. Annal of the Missouri Botanical Garden 78:273-295. B

Dowding, J. E., and E. C. Murphy (in press). The impact of predation by introduced mammals on endemic shorebirds in New Zealand: A conservation perspective. Biological Conservation.

Estudillo Lopez, J. 1986. Notes on rare cracids in the wild and in captivity. World PheasantAssociation Journal 11:53-66.

Evva, J. 1998. Etude du Upe (Ducula galeata), Carpophage endemique de l'Archipel des Marquises (Polynesie Francaise): Status actuel, facteurs de disparition et mesures de conservation. French Polynesia: CIRAD.

Fjeldsa, J. 1981. Podiceps taczanowskii (Aves, Podicipedidae), the endemic grebe of Lake Junin, Peru: A review. Steenstrupian 7:237-259.

Fjeldsa, J. 1983. A black rail from Junin, central Peru. Steenstrupia 8:277-298.

Fjeldsa, J. 1993. Niche segregation of grebes and other diving birds of temperate freshwater habitats, worldwide: do parallel communities evolve? Proceedings of the 7th Nordic ornithological Congress: 33-42.

Fjeldsa, J., and M. Kessler. 1996. Conserving the biological diversity of Polylepis woodlands of the highland of Peru and Bolivia. Copenhagen: NORDECO.

Fjeldsa, J., and N. Krabbe. 1990. Birds of the High Andes. Apollo Books, Zoological Museum, University of Copenhagen and Svendborg.

Forshaw, J. M. 1989. Parrots of the world. Third (revised) edition. Blandford Press, London.

Garnett, S. T., and G. B. Crowley. 2000. The Action Plan for Australian Birds 2000. Environment Australia, Queensland, Australia.

Gibbs, D. 1996. Notes on Solomon Island birds. Bulletin of the British Ornithological Club 116:18-25.

Gretton, A., M. Kohler, R. V. Lansdown, T. J. Pankhurst, J. Parr, and C. Robson. 1993. The status of Gurney's Pitta Pitta gurneyi, 1987-1989. Bird Conservation International 3:351-367.

Heather, B. D., and H. A. Robertson. 1997. The field guide to the birds of New Zealand. Oxford University Press, Oxford.

Holyoak, D. T. 1975. Les oiseaux des iles Marquises. L'Oiseau et R.F.O. 45:207-233, 341-366.

Hutton, I. 1991. Birds of Lord Howe Island: Past and Present. Hutton, Coffs Harbour.

Kattan, G. H., and J. W. Beltran. 1997. Rediscovery and status of the Brown-banded Antpitta Grallaria milleri in the central Andes of Colombia. Bird Conservation International 7:367-371.

Kattan, G. H., and J. W. Beltran. 1999. Altitudinal distribution, habitat use, and abundance of Grallaria antpittas in the central Andes of Colombia. Bird Conservation International 9:271-281.

Keith, A. R. 1997. The birds of St. Lucia, West Indies: An annotated checklist. British Ornithologists Union (BOU Checklist 15), Tring, UK.

King, W. B. 1978-1979. Red Data Book, 2: Aves. Second edition. International Union for Conservation of Nature and Natural Resources, Morges, Switzerland.

Hahn, P. 1993. Anmerkungen zur Situation des Hornsittichs Eunymphicus cornutus auf Neukaledonien und Ouvea. Papageien 6:189-192.

Hardy, R. 1984. Comunicaciones de la Prodena, no. 6, 23 October. Unpublished newsletter.

Harris, M. P. 1982. A field guide to the birds of the Galapagos. Revised Edition. Collins, London.

Harrison, M. 1970. The Orange-fronted Parakeet Cyanoramphus malherbi. Notornis 17:115-125.

Hearn, R. 1994. The current status of the Brazilian Merganser (Mergus octosetaceus) in Argentina. IWRB Threatened Waterfowl Research Group Newsletter 5:14-15

Hesse, A. 1998. Conservation of the Blue-throated Macaw Ara glaucogularis. Pp.104-109 in Loro Parque (Ed.). IV International parrot convention. Puerto de la Cruz, Tenerife: Loro Parque.

Hilty, S. L., and W. L. Brown. 1986. A guide to the birds of Colombia. Princeton University Press, Princeton, New Jersey.

Holyoak, D. T. 1974. Cyanoramphus malherbi, is it a color morph of C. auriceps? Bulletin of the British Ornithologists Club 94:4-9.

Holyoak, D. T., and J. C. Thibault. 1984. Contribution a l'etude des oiseaux de Polynesie orientale. Mem. Mus. Natn. Hist. Serv. A Zool. 127:1-209.

Holyoak, D. T. 1979. Notes on the birds of Viti Levu and Taveuni, Fiji. Emu 79:7-18.

Ikehara, S. 1988. Interim report to the bird survey at Mount Yonaha-dake, northern Okinawa Island. Pp. 63-76 in Habitat and Environmental Survey on Special Birds III. Interim report. Naha: Division of Nature Conservation, Okinawa Prefecture. (In Japanese.)

IUCN (World Conservation Union). 1978-1979. Red Data Book. Birds, Part 2. Psittaciformes to Passeriformes. Prepared by the IUCN Species Survival Commission. IUCN, Gland, Switzerland.

IUCN (World Conservation Union). 1994. IUCN Red List Categories. Prepared by the IUCN Species Survival Commission. IUCN, Gland, Switzerland.

IUCN (World Conservation Union). 2002. 2002 IUCN Red List of Threatened Species. Online at: http://www.redlist.org.

Jackson, M. H. 1985. Galapagos: A natural history guide. Calgary University Press, Calgary, Canada.

Jehl, J. R., and K. C. Parkes. 1982. The status of avifauna of the Revillagigedo Islands, Mexico. Wilson Bulletin 94:1-19.

Jehl, J. R., and K. C. Parkes. 1983. “Replacements” of landbird species on Socorro Island, Mexico. Auk 100:551-559.

Jordan, O. C., and C. A. Munn. 1993. First observations of the Blue-throated Macaw in Bolivia. Wilson Bulletin 105: 694-695.

King, B. F., E. C. Dickinson, and M. W. Woodcock. 1975. A Field guide to the birds of Southeast Asia. Collins, London.

Kinnaird, M. F. 1999. Cockatoos in peril. PsittaScene 11(2):11-13.

Lopez-Lanus, B., B., P. G. W. Salaman, T. Cowley, L. M. Renjifo and S. Arango. 2000. The threatened birds of the Rio Toche, Cordillera Central, Colombia. Cotinga 14.

Marchant, S., and P. J. Higgins (Eds). 1993. Handbook of Australian, New Zealand and Antarctic birds, 1: ratites to ducks. Oxford University Press, Melbourne.

Marsden, S. J. 1998. Changes in bird abundance following selective logging on Seram, Indonesia. Conservation Biology 12:605-611.

Martinez-Gomez, J. E., and R. L. Curry. 1996. The conservation of the Socorro Mockingbird Mimodes graysoni in 1993-1994. Bird Conservation International 6:271-283.

Mayr, E., and J. C. Greenway (Eds.). 1960. Check-list of birds of the world, 9. Museum of Comparative Zoology, Cambridge, Mass.

Mazar Barnett, J., G. M. Kirwan, M. Pearman, L. N. Naka and J. A. Tobias (in prep). Rediscovery and subsequent observations of the Kaempfer's Tody-tyrant Hemitriccus kaempferi. Bird Conservation International.

McFarland, D. C. 1994. Notes on the Lord Howe Currowong Strepera graculina crissalis. Australian Bird Watcher 15:310-315.

Meyer de Schauensee, R. 1946. A new species of wren from Colombia. Notulae Naturae 182.

Mills, J. A., and G. R. Williams. 1980. The status of endangered New Zealand birds. In M. J. Tyler (Ed.). The status of endangered Australasian wildlife. Royal Zoological Society of South Australia, Adelaide.

Mundkur, T., P. Carr, Sun Hean and Chhim Somean. 1995. Annotated checklist of birds observed in Cambodia during surveys of 20 March-30 April 1994. Unpublished.

Negret, A. J., and R. Cavalcanti. 1985. Censo poblacional de duas aves da regiao de Brasilia: Scytalopus novacapitalis e Melanopareia torquata (Rhinocryptidae). Pp. 271 in A. C. Z. Amaral and E. H. M. do Amaral (Eds.). Resumos, XII Congresso Brasileiro de Zoologia. Campinas: Editora da UNICAMP.

New South Wales National Parks and Wildlife Service. 2003. On line at: http://www.nationalparks.nsw.gov.au/npws.nsf/Content/Pied+currawong+vulnerable+species+listing.

O'Donnel, C., and J. Fjeldsa. (compilers). 1997. Grebes—status survey and conservation action plan. IUCN/SSc Grebe Specialist Group. IUCN, Gland, Switzerland and Cambridge, UK. Vii + 59 pp.

Parker, T. A., D. F. Stotz and J. W. Fitzpatrick. 1996. Ecological and distributional databases. Pp. 113-436 in Stotz, D. F., J. W. Fitzpatrick, T. A. Parker, and D. K. Moskovits (Eds.). Neotropica bird ecology and conservation: University of Chicago Press, Chicago.

Phillips, R. 1998. Red Data Bird: Black-breasted Puffleg Eriocnemis nigrivestis. World Birdwatch 20(2):20-21.

Pierce, R. J. 1986. Differences in susceptibility to predation during nesting between Pied and Black Stilts (Himantopus spp.). Auk 103:273-280.

Pratt, H. D., P. L. Bruner, and D. G. Berrett. 1987. A field guide to the birds of Hawaii and the tropical Pacific. Princeton University Press, Princeton.

Raffaele, H., J. Wiley, O. Garrido, A. Keith, and J. Raffaele. 1998. A Guide to the Birds of the West Indies. Pinceton University Press, Princeton, New Jersey.

Research Center, Wild Bird Society of Japan. 1993. Survey on special birds. Report to the Environment Agency of Japan. (In Japanese.)

Ridgely, R. S., and G. Tudor. 1989. The birds of South America, 1. University of Texas Press, Austin.

Ripley, S. D., and B. M. Beehler. 1989. Systematics, biogeography, and conservation of Jerdon's Courser Rhinoptilus bitorquatus. Journal of Yamashina Institute of Ornithology 21:165-174.

Robinet, O., and M. Salas. 1997. The Ouvea Parakeet recovery plan (1997-2002). Province des Iles Loyautes—CIRAD, Noumea, New Caladonia.

Robinson, D. 1988. Ecology and management of the Scarlet Robin, White-breasted White-eye and Long-billed White-eye on Norfolk Island. Report to the Australian National Parks and Wildlife Service, Canberra.

Round, P. D., and U. Treesucon. 1986. The rediscovery of Gurney's Pitta. Forktail 2:53-66.

Saikia, P., and P. C. Bhattacharjee. 1989. A preliminary survey of Adjutant Storks in Assam. Asian Wetland News 2(20):14-15.

Salaman, P. G. W. 1995. The rediscovery of Tumaco Seedeater Sporophila insulata. Cotina 4:33-35.

Schmechel, F. A., and S. O'Connor. 1999. Distribution and abundance of the Chatham Island Oystercatcher Haematopus chathamensis. Notornis 46:155-165.

Schodde, R., and I. J. Mason. 1999. The Directory of Australian Birds: Passerines. CSIRO, Collingwood, Victoria.

Schulenberg, T. S., and T. A. Parker. (manuscript) Rediscovery of the Yellow-browed Toucanet Aulacorhynchus huallagae.

Schulenberg, T. S., and T. A. Parker. 1997. Notes on the Yellow-browed Toucanet Aulacorhynchus huallagae. Ornithological Monographs 48:717-720.

Scott, D. A. 1997. A possible re-sighting of the Cherry-throated Tanager Nemosia rourei in Espirito Santo, Brazil. Cotinga 7:61-63.

Scott, D. A., and M. de L. Brooke. 1985. The endangered avifauna of southeastern Brazil: A report on the BOU/wwf expedition of 1980/81 and 1981/82. Pp. 115-139 in Diamond, A. W. and T. E. Lovejoy, (Eds.). Conservation of tropical forest birds. International Council for Bird Preservation (Technical. Publication 4), Cambridge, U. K.

Seutin, G. 1998. Status of the Utila Island subspecies of the plain Chachalaca (Ortalis vetula deschauenseei). Bol. CSG 6:10-13.

Sherley, Greg (compiler). 2001. Bird Conservation Priorities and a Draft Conservation Strategy for the Pacific Islands region. South Pacific Regional Environment Programme (SPREP), Apia, Samoa.

Short, L. L. 1982. Habitats, relationships, and conservation of Okinawa Woodpecker. Wilson Bulletin 85(1):4-20.

Sibley, C. G., and B. L. Monroe. 1990. Distribution and Taxonomy of Birds of the World. Yale University Press, New Haven and London.

Sick, H. 1993. Birds in Brazil: A Natural History. Princeton University Press, Princeton, New Jersey.

Snow, D. W. 1982. The Cotingas. Oxford University Press, London: British Museum (Natural History) and Oxford.

Snyder, N., P. McGowan, J. Gilardi, and A. Grajal (eds.). 2000. Parrots. Status Survey and Conservation Action Plan 2000-2004. IUCN, Gland, Switzerland, and Cambridge, UK. x + 180 pp.

Stattersfield, A. J., M. J. Crosby, A. J. Long, and D. C. Wege. 1998. Endemic bird areas of the world: Priorities for bird conservation. BirdLife International (BirdLife Conservation Series 7), Cambridge, UK.

Stiles, F. G., L. Rosselli, and C. I. Bohorquez. 1999. New and noteworthy records of birds from the middle Magdalena valley of Colombia. Bulletin of the British Ornithology Club.

Storch, Ilse (compiler). 2000. Grouse Status Survey and conservation action Plan 2000-2004. WPA/BirdLife/SSC Grouse Specialist Group. IUCN, Gland, Switzerland, and Cambridge, UK, and the World Pheasant Association, Reading, UK. x + 112 pp.

Stotz, D. F., J. W. Fitzpatrick, T. A. Parker, and D. K. Moskovits. 1996. Neotropical birds: Ecology and conservation. University of Chicago Press, Chicago.

Taylor, G. A. 2000. Action plan for seabird conservation in New Zealand, Part A: Threatened seabirds. Department of Conservation (Threatened Species Occasional Publication 16), Wellington.

TerraNature Trust. 2003. Online at: http://www.terranature.org/takahe.htm.

Thibault, J.C., and J.Y. Meyer (submitted). Contemporary extinction and population decline of the monarchs (pomarea spp.) in French Polynesia, South Pacific Ocean. [Oryx].

Thibault, J.C., and I. Guyot (Eds.). 1988. Livre rouge des oiseax manaces des regions francaises d'Outre-Mer. CIPO. 258 pp.

Todd, W. E. C., and M. A. Carriker. 1922. The birds of the Santa Marta Region of Colombia: a study in altitudinal distribution. Ann. Carnegie Mus. 7:388-464.

Traylor, M. A. (Ed.). 1979. Check-list of birds of the world, 8. Museum of Comparative Zoology, Cambridge, Mass.

Triggs, S. J., and C. H. Doaugherty. 1996. Conservation and genetics of New Zealand parakeets. Bird Conservation International 6:89-101.

UNEP World Conservation Monitoring Center. 2001. Annotated CITES Appendices and Reservations. Unwin Brothers, Martins Printing Group, Old Working, Surrey.

Varty, N., J. Adams, P. Espin, and C. Hambler. 1986. An ornithological survey of Lake Tota, Colombia, 1982. International Council for Bird Preservation Technical Reports 12. Cambridge, UK.

Violani, C. G., A. Fedrigo, and R. Massa. 1988. A reevaluation of the systematic status of the Grey Partridge (Perdix perdix italica, Hartert). Bulletin of British Ornithology Cl.108:22-27.

Watling, D. 1982. The Birds of Fiji, Tonga and Somoa. Millwood Press, Wellington, New Zealand.

Watling, D. 2000. Conservation status of Fijian birds. Technical Group 2 Report—Fiji Biodiversity Strategy and Action Plan. Department of Environment, Suva.

Winkler, H., D. A. Christine, and D. Nurney. 1995. Woodpeckers. Pica Press, Robertsbridge, UK.

World Parrot Trust. 2003. Online at: http://www.worldparrottrust.org/wpt12/bluethroatmacaw.htm.

Authority: This notice of review is published under the authority of the Endangered Species Act (16 U.S.C. 1531 et seq.).

Table 1.—Candidate Review
[R=listing no longer warranted/removed; C=listing warranted but precluded; L=to be listed]
Status: Category | Status: Priority | Scientific name | Family | Common name | Historic range
R | N/A | Nothoprocta kalinowskii | Tinamidae | Kalinowski's tinamou | Peru.
R | N/A | Podiceps andinus | Podicipedidae | Colombian grebe | Colombia.
C | 2 | Podiceps taczanowskii | Podicipedidae | Junin flightless grebe | Peru.
R | N/A | Pseudobulweria becki | Procellariidae | Beck's petrel | Papua New Guinea, Solomon Islands.
C | 5 | Pterodroma macgillivrayi | Procellariidae | Fiji petrel | Fiji.
C | 2 | Pterodroma axillaris | Procellariidae | Chatham petrel | Chatham Islands, New Zealand.
C | 8 | Pterodroma cookii | Procellariidae | Cook's petrel | New Zealand.
C | 2 | Pterodroma phaeopygia | Procellariidae | Galapagos petrel | Galapagos Islands, Ecuador.
C | 2 | Pterodroma magentae | Procellariidae | Magenta petrel | Chatham Islands, New Zealand.
C | 11 | Puffinus heinrothi | Procellariidae | Heinroth's shearwater | Bismarck Archipelago, Papua New Guinea, Solomon Islands.
C | 2 | Leptoptilos dubius | Ciconiidae | Greater adjutant | South Asia.
L | 2 | Pseudibis gigantea | Threskiornithidae | Giant ibis | Laos, Cambodia.
C | 2 | Phoenicopterus andinus | Phoenicopteridae | Andean flamingo | Peru, Bolivia, Chile, Argentina.
C | 2 | Mergus octosetaceus | Anatidae | Brazilian merganser | Brazil.
R | N/A | Ortalis vetula deschauenseei | Craciidae | Utila chachalaca | Utila Island, Honduras.
C | 2 | Penelope perspicax | Craciidae | Cauca guan | Colombia.
C | 8 | Pauxi unicornis | Craciidae | Southern helmeted curassow | Bolivia, Peru.
C | 2 | Crax alberti | Craciidae | Blue-billed curassow | Colombia.
C | 3 | Tetrao urogallus cantabricus | Tetraonidae | Cantabrian capercaillie | Spain.
C | 2 | Odontophorus strophium | Odontophoridae | Gorgeted wood-quail | Colombia.
R | N/A | Perdix perdix italica | Phasianidae | Italian grey partridge | Italy.
C | 2 | Laterallus tuerosi | Rallidae | Junin rail | Peru.
R | N/A | Nesocolpeus poecilopterus | Rallidae | Bar-winged rail | Fiji.
C | 8 | Rallus semiplumbeus | Rallidae | Bogota rail | Colombia.
C | 8 | Porphyrio mantelli | Rallidae | Takahe | New Zealand.
C | 8 | Haematopus chathamensis | Haematopodidae | Chatham oystercatcher | Chatham Islands, New Zealand.
L | 2 | Himantopus novaezelandiae | Recurvirostridae | Black stilt | New Zealand.
C | 2 | Rhinoptilus bitorquatus | Glareolidae | Jerdon's courser | India.
C | 5 | Numenius tenuirostris | Scolopacidae | Slender-billed curlew | Russia, Kazakhstan, Ukraine, Bulgaria, Hungary, Romania, Yugoslavia, southern Europe, Greece, Italy, Turkey, Africa, Algeria, Morocco, and Tunisia.
C | 2 | Ducula galeata | Columbidae | Marquesan imperial-pigeon | Marquesas Islands.
C | 2 | Cacatua moluccensis | Cacatuidae | Salmon-crested cockatoo | South Moluccas, Indonesia.
C | 5 | Cyanoramphus malherbi | Psittacidae | Orange-fronted parakeet | New Zealand.
C | 8 | Eunymphicus uvaensis | Psittacidae | Uvea parakeet | Uvea, New Caledonia.
C | 8 | Ara glaucogularis | Psittacidae | Blue-throated macaw | Bolivia.
C | 3 | Neomorphus geoffroyi dulcis | Cuculidae | Southeastern rufous-vented ground cuckoo | Brazil.
R | N/A | Otus elegans botelensis | Strigidae | Lanyu scops owl | Lanyu Island, Taiwan.
R | N/A | Glaucis hirsuta | Trochilidae | Hairy hermit | Panama, Colombia, Bolivia, Venezuela, the Guianas, and Brazil.
C | 3 | Phaethornis malaris margarettae | Trochilidae | Margaretta's hermit | Brazil.
C | 2 | Eriocnemis nigrivestis | Trochilidae | Black-breasted puffleg | Ecuador.
C | 4 | Eulidia yarrellii | Trochilidae | Chilean woodstar | Peru, Chile.
C | 2 | Acestrura berlepschi | Trochilidae | Esmeraldas woodstar | Equador.
C | 8 | Dryocopus galeatus | Picidae | Helmeted woodpecker | Brazil, Paraguay, Argentina.
C | 7 | Sapheopipo noguchii | Picidae | Okinawa woodpecker | Okinawa Island, Japan.
C | 11 | Aulacorhynchus huallagae | Ramphastidae | Yellow-browed toucanet | Peru.
C | 2 | Cinclodes aricomae | Furnariidae | Royal cinclodes | Peru, Bolivia.
C | 2 | Leptasthenura xenothorax | Furnariidae | White-browed tit spinetail | Peru.
C | 2 | Formicivora erythronotos | Thamnophilidae | Black-hooded antwren | Brazil.
C | 2 | Pyriglena atra | Thamnophilidae | Fringe-backed fire-eye | Brazil.
C | 2 | Grallaria milleri | Formicariidae | Brown-banded antpitta | Colombia.
R | N/A | Merulaxis stresemanni | Rhinocryptidae | Stresemann's bristlefront | Brazil.
R | N/A | Tijuca condita | Cotingidae | Grey-winged cotinga | Brazil.
C | 8 | Scytalopus novacapitalis | Conopophagidae | Brasilia tapaculo | Brazil.
C | 2 | Hemitriccus kaempferi | Tyrannidae | Kaempfer's tody-tyrant | Brazil.
C | 2 | Anairetes alpinus | Tyrannidae | Ash-breasted tit-tyrant | Peru, Bolivia.
R | N/A | Serpophaga araguayae | Tyrannidae | Bananal tyrannulet | Brazil.
C | 2 | Phytotoma raimondii | Phytotomidae | Peruvian plantcutter | Peru.
L | 2 | Pitta gurneyi | Pittidae | Gurney's pitta | Myanmar, Thailand.
R | N/A | Thryothorus nicefori | Troglodytidae | Niceforo's wren | Colombia.
L | 1 | Mimodes graysoni | Mimidae | Socorro mockingbird | Revillagigedo Islands, Mexico.
C | 3 | Cichlherminia iherminieri sanctaeluciae | Turdidae | St. Lucia forest thrush | St. Lucia Island, West Indies.
R | N/A | Turdus poliocephalus poliocephalus | Turdidae | Grey-headed blackbird | Norfolk Island, South Pacific
R | N/A | Acrocephalus caffer longirostris | Sylviidae | Moorea reed-warbler | Moorea Island (Society Islands), South Pacific.
C | 3 | Acrocephalus caffer aquilonis | Sylviidae | Eiao Polynesian warbler | Marquesas Islands.
C | 9 | Bowdleria punctata wilsoni | Sylviidae | Codfish Island fernbird | Codfish Island, New Zealand.
R | N/A | Trichocichla rufa | Sylviidae | Long-legged thicketbird | Fiji.
L | 1 | Eutrichomyias rowleyi | Monarchidae | Caerulean paradise-flycatcher | Sangihe Island, Sulawesi, Indonesia.
R | N/A | Pomarea mendozae mira | Monarchidae | Ua Pu flycatcher | Marquesas Islands, South Pacific.
C | 8 | Zosterops luteirostris | Zosteropidae | Ghizo white-eye | Solomon Islands.
R | N/A | Sporophila insulata | Thraupidae | Tumaco seedeater | Colombia.
C | 11 | Camarhynchus pauper | Thraupidae | Medium tree-finch | Floreana Island, Galapagos Islands.
C | 2 | Nemosia rourei | Thraupidae | Cherry-throated tanager | Brazil.
C | 11 | Tangara peruviana | Thraupidae | Black-backed tanager | Brazil.
C | 12 | Strepera graculina crissalis | Cracticidae | Lord Howe pied currawong | Lord Howe Islands, New South Wales.

Dated: May 7, 2004.
Marshall Jones,
Deputy Director, Fish and Wildlife Service.

[FR Doc. 04-11374 Filed 5-20-04; 8:45 am]

BILLING CODE 4310-55-P